ENVIRONMENTAL PROTECTION AGENCY

40 CFR Parts 153, 168, and 180

[OPP-2003-0368; FRL-7335-4]

Pesticides; Tolerance Exemptions for Active and Inert Ingredients for Use in Antimicrobial Formulations (Food-Contact Surface Sanitizing Solutions)

AGENCY: Environmental Protection Agency (EPA).

ACTION: Final rule.

SUMMARY: EPA is adding a new section to part 180 to list the pesticide chemicals that are exempt from the requirement of a tolerance when used in food-contact surface sanitizing solutions. This list of exempt pesticide chemicals is duplicated from the Food and Drug Administration's (FDA) regulations in 21 CFR 178.1010. For some of these chemical substances, EPA's list will use naming conventions differing from those used by FDA. Additionally, EPA is redesignating/reorganizing § 180.1001. This section of CFR will be split into five separate sections with no changes in text or content.

DATES: This final rule is effective on April 28, 2004.

ADDRESSES: EPA has established a docket for this action under Docket ID number OPP-2003-0368 All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Public Information and Records Integrity Branch (PIRIB), Rm. 119, Crystal Mall #2, 1921 Jefferson Davis Hwy., Arlington, VA., Monday through Friday, excluding legal holidays. The Docket telephone number is (703) 305-5805.

FOR FURTHER INFORMATION CONTACT: Kathryn Boyle, Registration Division (7505C), Office of Pesticide Programs, Environmental Protection Agency, 1200 Pennsylvania Ave., NW., Washington, DC 20460-0001; telephone number: (703) 305-6304; fax number: (703) 305-0599; e-mail address: boyle.kathryn@epa.gov.

SUPPLEMENTARY INFORMATION:

I. General Information

A. Does This Action Apply to Me?

You may be potentially affected by this action if you formulate or market pesticide products. Potentially affected categories and entities may include, but are not limited to:

• Food manufacturing (NAICS 311)

• Antimicrobial pesticides (NAICS 32561)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Copies Of this Document and Other Related Information?

In addition to using EDOCKET (http://www.epa.gov/edocket/, you may access this Federal Register document electronically through the EPA Internet under the “Federal Register” listings at http://www.epa.gov/fedrgstr/. A frequently updated electronic version of 40 CFR part 180 is available at E-CFR Beta Site Two at http://www.gpoaccess.gov/ecfr/.

II. What is the Agency's Authority for Taking this Action?

This final rule is issued under the Federal Food, Drug and Cosmetic Act (FFDCA) section 408, 21 U.S.C. 346a, as amended by the Food Quality Protection Act (FQPA) (Public Law 104-170), and the Antimicrobial Regulation Technical Correction Act (ARTCA) (Public Law 105-324).

Section 408 of FFDCA authorizes the establishment of tolerances, exemptions from the requirement of a tolerance, modifications in tolerances, and revocation of tolerances for residues of pesticide chemicals in or on raw agricultural commodities and processed foods. Owing to the FQPA and ARTCA amendments to FFDCA, certain chemical substances originally regulated by FDA under FFDCA section 409 as food-contact surface sanitizing solutions are now subject to EPA's authority under FFDCA section 408. Section 408(j)(2) of FFDCA provides that all regulations issued by FDA under FFDCA section 409 that stated conditions for safe use of substances that are now, post-FQPA, considered pesticide chemical residues in or on processed food or that otherwise stated the conditions under which such pesticide chemicals could be safely used, shall be deemed to be regulations issued under FFDCA section 408.

These pesticide chemical regulations are now subject to modification or revocation at EPA's initiative under FFDCA section 408(e). Today's rule duplicates the substance of FDA's food additive regulations for those chemical substances found in 21 CFR 178.1010 which are now pesticide chemicals, by codifying tolerance exemptions in a format consistent with EPA's authority under section 408 in a new section, 40 CFR 180.940.

Because some solutions described in 21 CFR 178.1010 may still have uses as food additives, FDA is leaving 21 CFR 178.1010 in effect. EPA's rulemaking activity has no effect on any of the FDA-regulated FFDCA section 409 food additive regulations in 21 CFR 178.1010.

III. Impact on Tolerance Reassessment

This rule shifts existing tolerance exemptions from 21 CFR 178.1010 to 40 CFR 180.940. These are duplicated from existing, valid FFDCA section 408 regulations. FDA promulgated the food additive regulations in 21 CFR 178.1010 under the authority of FFDCA section 409 prior to the enactment of FQPA. Those portions of 21 CFR 178.1010 that pertain to chemical substances that are pesticide chemicals post-FQPA and remain as such post-ARTCA were converted by FFDCA section 408(j)(2) into FFDCA section 408 tolerance exemptions. Thus, EPA's duplication of these tolerance exemptions is not “establishing, modifying, or revoking a tolerance” under FFDCA section 408(b). EPA is not, therefore, required to conduct a full reassessment of these tolerance exemptions at this time. However, because the tolerance exemptions duplicated from 21 CFR 178.1010 into 40 CFR 180.940 were in effect prior to the enactment of FQPA, they are subject to the tolerance reassessment deadline of August 2, 2006.

IV. Background

In the Federal Register of December 3, 2002 (67 FR 71847) (FRL-6824-2), the Agency published a direct final rule to establish 40 CFR 180.940. Comments were received. In the December 3, 2002 FR final rule, EPA had announced that it would withdraw the direct final rule if it received adverse comment, and proceed with proposed rule as provided by section 553 of the Administrative Procedure Act, 5 U.S.C. 553. Because some of the comments were of a nature that would warrant a response if made on a proposed rule, they were adverse comments that required withdrawal of the direct final rule. EPA withdrew the direct final rule on March 24, 2003 (68 FR 14165)(FRL-7299-4).

In the Federal Register of June 25, 2003 (68 FR 37778) (FRL-7302-2), the Agency issued its proposal to establish 40 CFR 180.940. The comments received as a result of the December 3, 2002, direct final rule were addressed in that proposed rule.

Six comments were received in response to the June 25th proposed rule. There was also a late comment to the direct final rule.

One commenter requested to increase the concentrations of certain chemical ingredients. At this time, EPA is not proposing to change the upper concentration limits as specified by FDA in 21 CFR 178.1010. The purpose of this final rule action is to duplicate FDA's previous clearances in a format consistent with EPA's authority under section 408. To increase the concentration limitations from those specified by FDA, requires the performance of a risk assessment. At this time EPA is merely duplicating the listing of chemicals in 21 CFR 178.1010 to 40 CFR 180.940, albeit in a different format. EPA is required under section 408(q)(1)(C) to complete tolerance reassessment for all pesticide chemicals by 2006, and will consider the commenter's suggestion during tolerance reassessment.

The same commenter requested that all GRAS ingredients listed under 21 CFR part 184 be included in 180.940. Another commenter requested that all chemical substances designated as GRAS in 21 CFR part 582 be included in 40 CFR 180.940 under a catch-all provision. The Agency understands that 21 CFR 178.1010 allows the inclusion of GRAS chemical substances and chemical substances “permitted by prior sanction or approval,” that are not expressly identified in 21 CFR 178.1010. It is for this reason that the Agency asked registrants of food-contact surface sanitizing solutions to specifically identify all other ingredients that they believe should be included in 40 CFR 180.940. At a later date, EPA intends to publish its proposal to revise 40 CFR 180.940 by adding chemical substances that were not specified by name in 21 CFR 178.1010 but that are included in a registered food-contact surface sanitizing solution. Today's final rule only considers the chemical substances that were specified by name in 21 CFR 178.1010.

One commenter expressed concern that documenting all of FDA's informal clearances could prove to be difficult. They stated that the existence of a registration should be sufficient proof. The Agency agrees. In fact, several registrants of various food-contact surface sanitizing solutions have already supplied the Agency with a list of chemical substances that were not included in the proposed 40 CFR 180.940, but are part of a registered pesticide product. The claims for inclusion of these chemical substances were documented only by reference to an EPA Registration Number. Where EPA's files clearly demonstrate both that the registered pesticide was subject to section 409 and contained the chemical substance before enactment of the FQPA, EPA will include the chemical substance in the upcoming proposal to revise 40 CFR 180.940. So although identifying a registered pesticide as containing a particular chemical substance may be sufficient to support inclusion in 40 CFR 180.940, registrants can maximize the likelihood of inclusion by providing documentation of FDA's prior sanction or approval.

Two commenters requested confirmation on whether or not chemical substances that are included in an existing, registered food-contact surface sanitizing solution, but are not included by name in 21 CFR 178.1010, are considered under this final rule to be FDA-approved substances. Today's final rule does not address such chemical substances. In the preambles to both the direct final rule and the proposed rule, EPA asked registrants of food-contact surface sanitizing solutions to identify to EPA any chemical substances that they claim have been cleared by FDA for use in sanitizing solutions but not expressly identified in 21 CFR 178.1010. As previously stated, at some time in the near future, EPA intends to publish its proposal to revise 40 CFR 180.940 to add chemical substances that were not specified by name in 21 CFR 178.1010. In order to preserve the use of registered food-contact surface sanitizing solutions whose ingredients were cleared by FDA before FQPA's enactment, EPA will treat all of the component chemicals (whether or not they are specifically identified in 21 CFR 178.1010) of registered food-contact surface sanitizing solutions as exempt from the requirement of a tolerance until EPA has completed its review of the registrants' claims with respect to pesticide chemicals not specifically identified in 21 CFR 178.1010.

The same two commenters also stated that EPA should not distinguish between the three categories of food-contact surface sanitizing solutions. They believe that these categories have not been rigidly applied. Today's final rule addresses only those use patterns as specifically described in 21 CFR 178.1010. If a registrant supplies information to the Agency to demonstrate that FDA cleared a solution for uses broader than described in § 178.1010, then EPA can include these changes in its upcoming proposal to revise 40 CFR 180.940. However, today's regulation merely duplicates the substance of the existing FDA regulation.

The late comment (to the direct final rule) requested that all of the quaternary sanitizer solutions currently listed under 21 CFR 178.1010 be approved by EPA for end use at a concentration not to exceed 400 ppm of the active quaternary compound. The rationale for such a change included a statement that FDA had intended to make such a change and a discussion of the concerns of public health officials who advocate for solutions with demonstrated efficacy over a wide range of concentrations. Such a range would provide the user “a reasonable margin of error” while preparing safe and effective sanitizing solutions.

In a similar manner, another commenter indicated its belief that the proposed language for the quaternary ammonium compounds was inconsistent with the existing FDA regulations. According to the commenter FDA had established a total limit of 400 ppm for the quaternary ammonium compounds, while EPA's approach could possibly allow up to 750 ppm. EPA discussed this issue with FDA, and concluded that the comments have merit, not only for the quaternary ammonium compounds, but also for other chemicals that were expressed as total or solution limits. This would include the halogens (chloride-, bromide-, and iodide-producing chemicals) and napthalene sulfonate derivatives. Since the concentration limits for the above chemicals are specified in 21 CFR 178.1010 as total or solution limits, this change has been carried forward to 40 CFR 180.940.

One of the commenters submitted a letter from FDA which seemed to indicate that FDA had raised the maximum at-use concentration of certain chemicals from 200 ppm to 220 ppm. This comment was also discussed with FDA who indicated that while they had “no objection” to 220 ppm as the at-use concentration, they intended that the tolerance for residues in or on food should remain at 200 ppm. FDA would continue to have no objection to use levels as high as 220 as indicated through field testing.

While not in response to a comment, the Agency is making several changes to the list of chemical substances proposed in the June 25th proposed rule. Several of the chemical substances (citric acid, dextrin, magnesium oxide, sodium bicarbonate, starch and octadecanoic acid, calcium salt) have been recently classified as List 4A minimal risk inert ingredients (see the listings of inert ingredients at http://www.epa.gov/opprd001/inerts/lists.html). Tolerance exemptions for certain of these List 4A substances (citric acid, dextrins, and starch (as a food commodity)) have already been established in 40 CFR 180.950, the section of CFR that holds “Tolerance Exemptions for Minimal Risk Active and Inert Ingredients.” Because chemical substances with a tolerance exemption identified in 40 CFR 180.950 may be used in any pesticide product, including antimicrobial products, without limitation, having tolerance exemptions in both 40 CFR 180.940 and 180.950 would be redundant. Therefore, duplicative entries for citric acid, dextrin, and starch are not created today in 40 CFR 180.940. Additionally, because the Agency intends that all List 4A substances eventually will be transferred to 40 CFR 180.950 without limitations, the Agency is removing the concentration use limitations for sodium bicarbonate, magnesium oxide and octadecanoic acid, calcium salt.

Based on the reasons set forth in the preamble to the proposed rule, and considering the comments received by the Agency in response to the direct final and proposed rules, EPA is creating a new section 40 CFR 180.940.

Redesignation of 40 CFR 180.1001

In the July 1, 2002 edition of title 40 CFR parts 150 to 189, § 180.1001 occupies pages 508 to 537, a large amount of information for one section of CFR. Today's action shifts and splits 40 CFR 180.1001 with no changes to the text or content. See Table 1 for a redesignation of the paragraphs and the new sections.

Table 1.—Redesignation of 40 CFR 180.1001
Former CFR Designation | New CFR Designation
180.1001(a) | 40 CFR 180.900
180.1001(b) | 40 CFR 180.905
180.1001(c) | 40 CFR 180.910
180.1001(d) | 40 CFR 180.920
180.1001(e) | 40 CFR 180.930

All references to 40 CFR 180.1001 in other sections of 40 CFR are also being changed to reflect the shift. Additionally two FDA regulations cite to 180.1001: 21 CFR 182.99 and 582.99. FDA is aware that this shift of 40 CFR 180.1001 is occurring.

V. Objections and Hearing Requests

Under section 408(g) of the FFDCA, as amended by the FQPA, any person may file an objection to any aspect of this regulation and may also request a hearing on those objections. The EPA procedural regulations which govern the submission of objections and requests for hearings appear in 40 CFR part 178. Although the procedures in those regulations require some modification to reflect the amendments made to the FFDCA by the FQPA of 1996, EPA will continue to use those procedures, with appropriate adjustments, until the necessary modifications can be made. The new section 408(g) provides essentially the same process for persons to “object” to a regulation for an exemption from the requirement of a tolerance issued by EPA under new section 408(d), as was provided in the old FFDCA sections 408 and 409. However, the period for filing objections is now 60 days, rather than 30 days.

A. What Do I Need to Do to File an Objection or Request a Hearing?

You must file your objection or request a hearing on this regulation in accordance with the instructions provided in this unit and in 40 CFR part 178. To ensure proper receipt by EPA, you must identify docket ID number OPP-2003-0368 in the subject line on the first page of your submission. All requests must be in writing, and must be mailed or delivered to the Hearing Clerk on or before June 28, 2004.

1. Filing the request. Your objection must specify the specific provisions in the regulation that you object to, and the grounds for the objections (40 CFR 178.25). If a hearing is requested, the objections must include a statement of the factual issues(s) on which a hearing is requested, the requestor's contentions on such issues, and a summary of any evidence relied upon by the objector (40 CFR 178.27). Information submitted in connection with an objection or hearing request may be claimed confidential by marking any part or all of that information as CBI. Information so marked will not be disclosed except in accordance with procedures set forth in 40 CFR part 2. A copy of the information that does not contain CBI must be submitted for inclusion in the public record. Information not marked confidential may be disclosed publicly by EPA without prior notice.

Mail your written request to: Office of the Hearing Clerk (1900C), Environmental Protection Agency, 1200 Pennsylvania Ave., NW., Washington, DC 20460-0001. You may also deliver your request to the Office of the Hearing Clerk in Rm.104, Crystal Mall #2, 1921 Jefferson Davis Hwy., Arlington, VA. The Office of the Hearing Clerk is open from 8 a.m. to 4 p.m., Monday through Friday, excluding legal holidays. The telephone number for the Office of the Hearing Clerk is (703) 603-0061.

2. Tolerance fee payment. If you file an objection or request a hearing, you must also pay the fee prescribed by 40 CFR 180.33(i) or request a waiver of that fee pursuant to 40 CFR 180.33(m). You must mail the fee to: EPA Headquarters Accounting Operations Branch, Office of Pesticide Programs, P.O. Box 360277M, Pittsburgh, PA 15251. Please identify the fee submission by labeling it “Tolerance Petition Fees.”

EPA is authorized to waive any fee requirement “when in the judgement of the Administrator such a waiver or refund is equitable and not contrary to the purpose of this subsection.” For additional information regarding the waiver of these fees, you may contact James Tompkins by phone at (703) 305-5697, by e-mail at tompkins.jim@epa.gov, or by mailing a request for information to Mr. Tompkins at Registration Division (7505C), Office of Pesticide Programs, Environmental Protection Agency, 1200 Pennsylvania Ave., NW., Washington, DC 20460-0001.

If you would like to request a waiver of the tolerance objection fees, you must mail your request for such a waiver to: James Hollins, Information Resources and Services Division (7502C), Office of Pesticide Programs, Environmental Protection Agency, 1200 Pennsylvania Ave., NW., Washington, DC 20460-0001.

3. Copies for the Docket. In addition to filing an objection or hearing request with the Hearing Clerk as described in Unit V.A., you should also send a copy of your request to the PIRIB for its inclusion in the official record that is described in ADDRESSES. Mail your copies, identified by docket ID number OPP-2003-0368, to: Public Information and Records Integrity Branch, Information Resources and Services Division (7502C), Office of Pesticide Programs, Environmental Protection Agency, 1200 Pennsylvania Ave., NW., Washington, DC 20460. In person or by courier, bring a copy to the location of the PIRIB described in ADDRESSES. You may also send an electronic copy of your request via e-mail to: opp-docket@epa.gov. Please use an ASCII file format and avoid the use of special characters and any form of encryption. Copies of electronic objections and hearing requests will also be accepted on disks in WordPerfect 6.1/8.0 or ASCII file format. Do not include any CBI in your electronic copy. You may also submit an electronic copy of your request at many Federal Depository Libraries.

B. When Will the Agency Grant a Request for a Hearing?

A request for a hearing will be granted if the Administrator determines that the material submitted shows the following: There is a genuine and substantial issue of fact; there is a reasonable possibility that available evidence identified by the requestor would, if established resolve one or more of such issues in favor of the requestor, taking into account uncontested claims or facts to the contrary; and resolution of the factual issues(s) in the manner sought by the requestor would be adequate to justify the action requested (40 CFR 178.32).

VI. Statutory and Executive Order Reviews

This final rule reorganizes the existing exemptions in 40 CFR 180.1001, shifting them from one section to another within the same part. The Agency is acting on its own initiative under FFDCA section 408(e) in shifting these existing tolerance exemptions to a new section of part 180. This has no substantive effect, and is not expected to have any adverse impact, or otherwise impose any new requirements.

This final rule also establishes a new section, 40 CFR 180.940, “Tolerance Exemptions for Active and Inert Ingredients for Use in Antimicrobial Formulations (Food-Contact Surface Sanitizing Solutions).” As discussed in Unit II., this new section merely duplicates that portion of the existing FDA regulation 21 CFR 178.1010 that applies to chemical substances that are now subject to EPA's authority under FFDCA section 408.

The Office of Management and Budget (OMB) has exempted these types of actions from review under Executive Order 12866, entitled Regulatory Planning and Review (58 FR 51735, October 4, 1993). Because this rule has been exempted from review under Executive Order 12866 due to its lack of significance, this rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note).

Under section 605(b) of the Regulatory Flexibility Act (RFA) (5 U.S.C. 601 et seq.), the Agency hereby certifies that the proposed action to reorganize 40 CFR 180.1001 will not have significant negative economic impact on a substantial number of small entities. Creation of a new section and the reorganization of 40 CFR 180.1001 does not have a substantive effect and hence causes no impact. In addition, the Agency has determined that this action will not have a substantial direct effect on States, on the relationship between the national government and the States, or on the distribution of power and responsibilities among the various levels of government, as specified in Executive Order 13132, entitled Federalism(64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of FFDCA section 408(n)(4). For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

VII. Congressional Review Act

The Congressional Review Act, 5 U.S.C. 801 et seq., as added by the Small Business Regulatory Enforcement Fairness Act of 1996, generally provides that before a rule may take effect, the Agency promulgating the rule must submit a rule report, which includes a copy of the rule, to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Parts 153, 168, and 180

Environmental protection, Administrative practice and procedure, Advertising, Agricultual commodities, Exports, Labeling, Pesticides and pests, Reporting and recordkeeping requirements.

Dated: April 21, 2004.
James Jones,
Director, Office of Pesticide Programs.

Therefore, 40 CFR chapter I is amended as follows:

PART 153—[AMENDED]

1. The authority citation for part 153 continues to read as follows:

Authority: 15 U.S.C. 136 et seq.

2. Sections 153.155 is amended by revising paragraph (c)(1) to read as follows:

§ 153.155 Seed treatment products.

* * * * *

(c) * * *

(1) Sections 180.910, 180.920, and 180.950 if an exemption from the requirement of a tolerance has been established.

* * * * *

PART 168—[AMENDED]

3. The authority citation for part 168 continues to read as follows:

Authority: 15 U.S.C. 136 et seq.

4. Section 168.65 is amended by revising the first sentence of paragraph (b)(1)(iii)(A)(2)(i), and by revising paragraph (b)(1)(iii)(A)(2)(ii) to read as follows:

§ 168.65 Pesticide export label and labeling requirements.

* * * * *

(b) * * *

(1) * * *

(iii) * * *

(A) * * *

(2) * * *

(i) The change in color must result only from the addition of a dye included on the list of the chemicals exempted from the requirement of a tolerance at 40 CFR 180.910, 180.920, 180.930, and 180.950, and the dye must not be a List 1 inert. * * *

(ii) The change in fragrance must result only from the addition of a chemical included on the list of the chemicals exempted from the requirement of a tolerance at 40 CFR 180.910, 180.920, 180.930, and 180.950, and the chemical must not be a List 1 inert.

* * * * *

5. Section 168.75 is amended by revising the second and fifth sentences of paragraph (b)(4)(iii) to read as follows:

§ 168.75 Procedures for exporting unregistered pesticide-purchase acknowledgment statements.

* * * * *

(b) * * *

(4) * * *

(iii) * * * The change in color must result only from the addition of a dye included on the list of the chemicals exempted from the requirement of a tolerance at 40 CFR 180.910, 180.920, 180.930, and 180.950, and the dye must not be a List 1 inert. * * * The change in fragrance must result only from the addition of a chemical included on the list of the chemicals exempted from the requirement of a tolerance at 40 CFR 180.910, 180.920, 180.930, and 180.950, and the chemical must not be a List 1 inert. * * *

* * * * *

PART 180—[AMENDED]

6. The authority citation for part 180 continues to read as follows:

Authority: 21 U.S.C. 321(q), 346a and 371.

7. Section 180.900 is added to subpart D to read as follows:

§ 180.900 Exemptions from the requirement of a tolerance.

An exemption from a tolerance shall be granted when it appears that the total quantity of the pesticide chemical in or on all raw agricultural commodities for which it is useful under conditions of use currently prevailing or proposed will involve no hazard to the public health.

8. Section 180.905 is added to subpart D to read as follows:

§ 180.905 Pesticide chemicals; exemptions from the requirement of a tolerance.

(a) When applied to growing crops, in accordance with good agricultural practice, the following pesticide chemicals are exempt from the requirement of a tolerance:

(1) [Reserved]

(2) N-Octylbicyclo(2,2,1)-5-heptene-2,3-dicarboximide.

(3) Petroleum oils.

(4) Piperonyl butoxide.

(5) [Reserved]

(6) Pyrethrum and pyrethrins.

(7) Rotenone or derris or cube roots.

(8) Sabadilla.

(b) These pesticides are not exempted from the requirement of a tolerance when applied to a crop at the time of or after harvest.

9. Section 180.910 is added to subpart D to read as follows:

§ 180.910 Inert ingredients used pre- and post-harvest; exemptions from the requirement of a tolerance.

Residues of the following materials are exempted from the requirement of a tolerance when used in accordance with good agricultural practice as inert (or occasionally active) ingredients in pesticide formulations applied to growing crops or to raw agricultural commodities after harvest:

Inert ingredients | Limits | Uses
Acetic acid |  | Catalyst
Acetic anhydride |  | Solvent, cosolvent
Acetone |  | Do.
Alkanoic and alkenoic acids, mono- and diesters of α-hydro-ω-hydroxypoly (oxyethylene) with molecular weight (in amu) range of 200 to 6,000 |  | Emulsifiers
Alkyl (C8-C24) benzenesulfonic acid and its ammonium, calcium, magnesium, potassium, sodium, and zinc salts |  | Surfactants, related adjuvants of surfactants
α-Alkyl (C9-C18-ω-hydroxypoly(oxyethylene) with poly(oxyethylene) content of 2-30 moles |  | Solvent, cosolvent, surfactant, and related adjuvants of surfactants
α-(p-Alkylphenyl)-ω-hydroxypoly(oxyethylene) produced by the condensation of 1 mole of alkylphenol (alkyl is a mixture of propylene tetramer and pentamer isomers and averages C13) with 6 moles of ethylene oxide |  | Surfactants, related adjuvants of surfactants
α-Alkyl (C6-C14)-ω-hydroxypoly(oxypropylene) block copolymer with polyoxyethylene; polyoxypropylene content is 1-3 moles; polyoxyethylene content is 4-12 moles; average molecular weight (in amu) is approximately 635 |  | Do.
α-alkyl (C12-C15)-ω-hydroxypoly (oxypropylene) poly (oxyethylene) copolymers (where the poly (oxypropylene) content is 3-60 moles and the poly (oxyethylene) content is 5-80 moles) | Not more than 20% of pesticide formulations | Surfactant
Alkyl (C8-C18) sulfate and its ammonium, calcium, isopropylamine, magnesium, potassium, sodium, and zinc salts |  | Surfactants.
Aluminum hydroxide |  | Diluent, carrier
Aluminum oxide |  | Diluent
Aluminum stearate |  | Surfactant
Ammonium bicarbonate |  | Surfactant, suspending agent, dispersing agent
Ammonium carbamate |  | Synergist in aluminum phosphide formulations
Ammonium chloride |  | Intensifier when used with ammonium nitrate as a dessicant or defoliant. Fire suppressant in aluminum phosphide and magnesium phosphide formulations
Ammonium hydroxide |  | Solvent, cosolvent, neutralizer, solubilizing agent
Ammonium stearate |  | Surfactant
Ammonium sulfate |  | Solid diluent, carrier
Ammonium thiosulfate |  | Intensifier when used with ammonium nitrate as desiccant or defoliant
Amyl acetate |  | Solvent, cosolvent, attractant
Ascorbic acid (CAS Reg. No. 50-81-7) |  | Stabilizer, preservative
Ascorbyl palmitate |  | Preservative
Attapulgite-type clay |  | Solid diluent, carrier, thickener
Bacillus thuringiensis fermentation solids and/or solubles |  | Diluent, carrier
Beeswax |  | Coating agent
Bentonite |  | Solid diluent, carrier
Benzoic acid |  | Preservative for formulation
Butane |  | Propellant
n-Butanol (CAS Reg. No. 71-36-3) |  | Solvent, cosolvent
Butylated hydroxyanisole |  | Antioxidant
Butylated hydroxytoluene |  | Do.
α-(p-tert-Butylphenyl)-ω-hydroxypoly (oxyethylene) mixture of dihydrogen phosphate and monohydrogen phosphate esters and the corresponding ammonium calcium, magnesium, monoethanolamine, potassium, sodium, and zinc salts of the phosphate esters; the poly(oxyethylene) content averages 4-12 moles |  | Surfactants related adjuvants of surfactants
Calcareous shale |  | Solid diluent carrier
Calcite |  | Do.
Calcium carbonate |  | Do.
Calcium chloride |  | Stabilizer
Calcium phosphate |  | Solid diluent, carrier
Calcium hydroxide |  | Do.
Calcium hypochlorite |  | Sanitizing and bleaching agent
Calcium oxide |  | Solid diluent, carrier
Calcium salt of partially dimerized rosin, conforming to 21 CFR 172.210 |  | Coating agent
Calcium silicate |  | Solid diluent, carrier
Calcium stearate |  | Do.
Carnauba wax |  | Coating agent
Carrageenan, conforming to 21 CFR 172.620 | Minimum molecular weight (in amu): 100,000 | Thickener
Casein | Expires May 24, 2005. | Surfactant, emulsifier, wetting agent
Cetyl alcohol (CAS Reg. No. 36653-82-4) | Not more than 5.0% of pesticide formulation | Evaporation retardant
Charcoal, activated | Meets specifications in the Food Chemical Codex | Carrier
Coconut shells |  | Solid diluent and carrier
Cod liver oil |  | Solvent, cosolvent
Coumarone—indene resin, conforming to 21 CFR 172.215 | For use on citrus only | Component of coating agent
Croscarmellose sodium (CAS Reg. No. 74811-65-7) |  | Disintegrant, solid diluent, carrier, and thickener
Diacetyl tartaric acid esters of mono- and diglycerides of edible fatty acids |  | Emulsifier
Dialkyl (C8-C18) dimethyl ammonium chloride | Not more than 0.2% in silica, hydrated silica | Flocculating agent in the manufacture of silica, hydrated silica for use as a solid diluent, carrier
Diatomite (diatomaceous earth) |  | Solid diluent carrier
Dichlorodifluoromethane |  | Propellant
Dichlorotetrafluoroethane |  | Do.
Diethylene glycol abietate |  | Surfactants, related adjuvants of surfactants
1,1-Difluoroethane (CAS Reg. No. 75-37-6) | For aerosol pesticide formulations used for insect control in food- and feed-handling establishments and animals | Aerosol propellant
1,2-Dihydro-6-ethoxy-2,2,4-trimethylquinolene | Not more than 0.02% of pesticide formulation | Antioxidant
3,6-Dimethyl-4-octyn-3,6-diol | Not more than 2.5% of pesticide formulation | Surfactants, related adjuvants of surfactants
α-(o,p-Dinonylphenyl)-ω-hydroxypoly (oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles |  | Surfactants, related adjuvants of surfactants
α-(o,p-Dinonylphenyl)-ω-hydroxypoly (oxyethylene) produced by condensation of 1 mole of dinonylphenol (nonyl group is a propylene trimer isomer) with an average of 4-14 or 140-160 moles of ethylene oxide |  | Do.
Dipropylene glycol |  | Solvent, cosolvent
Disodium phosphate |  | Anticaking agent, conditioning agent
Disodium zinc ethylenediaminetetraacetate dihydride |  | Sequestrant
Dodecylbenzenesulfonic acid, amine salts |  | Release rate regulator in pheromone formulation
α-(p-Dodecylphenyl)-ω-hydroxypoly (oxyethylene) produced by the condensation of 1 mole of dodecylphenol (dodecyl group is a propylene tetramer isomer) with an average of 4-14 or 30-70 moles of ethylene oxide; if a blend of products is used, the average number of moles of ethylene oxide reacted to produce any product that is a component of the blend shall be in the range of 4-14 or 30-70 |  | Surfactants, related, adjuvants of surfactants
Dolomite |  | Solid diluent, carrier
Epoxidized linseed oil |  | Surfactants, related adjuvants of surfactants
Epoxidized soybean oil |  | Do.
Ethoxylated lignosulfonic acid, sodium salt |  | Surfactant
Ethyl acetate |  | Solvent, cosolvent
Ethyl alcohol |  | Do.
Ethyl esters of fatty acids derived from edible fats and oils |  | Solvent, cosolvent
Ethylene methylphenyglycidate |  | Synthetic flavoring
Ethylene oxide adducts of 2,4,7,9-tetramethyl-5-decynediol, the ethylene oxide content averages 3.5, 10, or 30 moles |  | Surfactants, related adjuvants of surfactants
Ethylenediaminetetraacetic acid | 3% of pesticide formulation | Sequestrant
Ethylenediaminetetraacetic acid, tetrasodium salt | 5% of pesticide formulation | Sequestrant
2-Ethyl-1-hexanol | Not more than 2.5% of pesticide formulation | Solvent, adjuvant of surfactants
Fatty acids, conforming to 21 CFR 172.860 |  | Binder, defoaming agent, lubricant
FD&C Blue No. 1 | Not more than 0.2% of pesticide formulation | Dye
FD&C Red No. 40 (CAS Reg. No. 25956-17-6) conforming to 21 CFR 74.340 | Not to exceed 0.002% by weight of pesticide formulation | Dye, coloring agent
Ferric sulfate |  | Solid diluent, carrier
Fish meal | Expires May 24, 2005. | Solid diluent, carrier
Furcelleran |  | Thickener
Glycerides, edible fats and oils derived from plants and animals, reaction products with sucrose (CAS Reg. Nos. 100403-38-1, 100403-41-6, 100403-39-2, 100403-40-5) |  | Emulsifier, dispersing agent
Glycerol |  | Thickener
Glycerol mono-, di-, and triacetate |  | Solvent, cosolvent
Glyceryl monostearate |  | Emulsifier
Granite |  | Do.
Graphite |  | Solid diluent, carrier
Gum arabic (acacia) |  | Surfactant, suspending agent, dispersing agent
Gypsum |  | Solid diluent, carrier
Hexamethylenetetramine | For use in citrus washing solutions only at not more than 1% | Preservative
n-Hexyl alcohol (CAS Reg. No. 111-27-3) |  | Solvent, cosolvent
Humic acid, sodium salt (CAS Reg. No. 68131-04-4) |  | Adjuvant, UV protectant.
Hydrochloric acid |  | Solvent, neutralizer
Hydroxyethylidine diphosphonic acid (HEDP) (CAS Reg. No. 2809-21-4) | For use in antimicrobial pesticide formulations at not more than 1 percent | Stabilizer, chelator
Iron oxide |  | Solid diluent, carrier
Isopropyl alcohol |  | Solvent, cosolvent, stabilizer, inhibitor
Isopropyl myristate, CAS Reg. No. 110-27-0 |  | Solvent
Kaolinite-type clay |  | Solid diluent, carrier
Lactic acid |  | Solvent
Lauryl alcohol |  | Surfactant
α-Lauryl-ω-hydroxypoly(oxyethylene), average molecular weight (in amu) of 600 |  | Emulsifier
α-Lauryl-ω-hydroxypoly(oxyethylene) sulfate, sodium salt; the poly(oxyethylene) content is 3-4 moles |  | Surfactants, related adjuvants of surfactants
Lignosulfonate, ammonium, calcium, magnesium, potassium, sodium, and zinc salts |  | Surfactants, related adjuvants of surfactants
d-Limonene (CAS Reg. No. 5989-27-5) |  | Solvent, fragrance
Magnesium carbonate |  | Anticaking agent, conditioning agent
Magnesium chloride |  | Safener
Magnesium lime |  | Solid diluent, carrier
Magnesium oxide |  | Do.
Magnesium silicate |  | Do.
Magnesium stearate |  | Surfactant
Magnesium sulfate |  | Solid diluent, carrier, safener
Manganous oxide |  | Solid diluent, carrier
Methyl alcohol |  | Solvent
Methyl n-amyl ketone (CAS Reg. No. 110-43-0) |  | Solvent, cosolvent
Methylated silicones |  | Antifoaming agent
Methyl esters of fatty acids derived from edible fats and oils |  | Solvent, cosolvent
Methyl esters of higher fatty acids conforming to 21 CFR 573.640 |  | Antidusting agent, surfactant
Methyl ester of rosin, partially hydrogenated (as defined in 21 CFR 172.615) |  | Surfactants, related adjuvants of surfactants
Methyl isobutyl ketone |  | Solvent
Mica |  | Solid diluent, carrier
Mineral oil, U.S.P., or conforming to 21 CFR 172.878 or 178.3620(a) (CAS Reg. No. 8012-95-1) |  | Diluent, carrier, and solvent
Modified polyester resin derived from ethylene glycol, fumaric acid, and rosin | For use on citrus only | Resinous coating
Monoammonium phosphate | No more than 3.75% by weight in formulation | Postharvest fumigation in formulation with aluminum phosphide
Mono- and diglycerides of C8-C18 fatty acids |  | Surfactants, related adjuvants of surfactants
Montmorillonite-type clay |  | Solid diluent, carrier
Montmorillonite-type clay treated with polytetrafluoroethylene (PTFE; CAS Reg. No. 9002-84-0) | PTFE content not greater than 0.5% (w/w) of clay | Carrier
Nonyl, decyl, and undecyl glycoside mixture with a mixture of nonyl, decyl, and undecyl oligosaccharides and related reaction products (primarily decanol and undecanol) produced as an aqueous-based liquid (50 to 65% solids) from the reaction of primary alcohols (containing 15 to 20% secondary alcohol isomers) in a ratio of 20% C9, 40% C10, and 40% C11 with carbohydrates (average glucose to alkyl chain ratio 1.3 to 1.8) |  | Surfactant.
α-(p-Nonylphenyl)-ω-hydroxypoly(oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles or 30 moles |  | Surfactants, related adjuvants of surfactants
α-(p-Nonylphenyl)-ω-hydroxypoly(oxyethylene) produced by the condensation of 1 mole of nonylphenol (nonyl group is a propylene trimer isomer) with an average of 4-14 or 30-90 moles of ethylene oxide; if a blend of products is used, the average number of moles of ethylene oxide reacted to produce any product that is a component of the blend shall be in the range of 4-14 or 30-90 |  | Do.
α-(p-Nonylphenyl)-ω-hydroxypoly(oxyethylene) sulfate, ammonium, calcium, magnesium, potassium, sodium, and zinc salts; the nonyl group is a propylene trimer isomer and the poly(oxyethylene) content averages 4 moles |  | Do.
Octyl and decyl glucosides mixture with a mixture of octyl and decyloligosaccharides and related reaction products (primarily n- decanol) produced as an aqueous-based liquid (68-72% solids) from the reaction of straight chain alcohols (C8(45%), C10 (55%)) with anhydrous glucose |  | Do.
Oleic acid |  | Diluent
Oleic acid diester of α-hydro-ω-hydroxypoly (oxyethylene); the poly(oxyethylene) having average molecular weight (in amu) 400 |  | Surfactants, related adjuvants of surfactants
α-Oleoyl-ω-hydroxypoly(oxyethylene), average molecular weight (in amu) of 600 |  | Emulsifier
Oleyl alcohol (CAS Reg. No. 143-28-2 | 15% | Cosolvent
Oxalic acid | No more oxalic acid should be used than is necessary to chelate calcium and in no case should more than 2 lb oxalic acid per acre be used | Calcium chelating hard water inhibitor
Oxidized pine lignin, sodium salt, (CAS Reg. No. 68201-23-0) | Maximum of 2% of formulation | Surfactant, related adjuvant of surfactant
Palmitic acid |  | Diluent
Pentaerythritol ester of maleic anhydride modified wood rosin |  | Plasticizer
Pentaerythritol ester of modified resin |  | Do.
Pentaerythritol stearates mixture (CAS Reg. No. 85116-93-4) which include pentaerythritol monostearate (CAS Reg. No. 78-23-9), pentaerythritol distearate (CAS Reg. No. 13081-97-5), pentaerythritol tristearate (CAS Reg. No. 28188-24-1) and pentaerythritol tetrastearate (CAS Reg. No. 115-83-3) | No more than 25 ppm in pesticide formulations | Emulsifier
Petrolatum, conforming to 21 CFR 172.880 |  | Coating agent
Petroleum hydrocarbons, light odorless conforming to 21 CFR 172.884 |  | Solvent, diluent.
Petroleum hydrocarbons, synthetic isoparaffinic, conforming to 21 CFR 172.882 |  | Do.
Petroleum naphtha, conforming to 21 CFR 172.250(d) |  | Component of coating agent
Petroleum wax, conforming to 21 CFR 172.886(d) |  | Coating agent
Phosphoric acid |  | Buffer
Phosphorus oxychloride |  | Catalyst
Pine lignin |  | Adsorbent
B-Pinene polymers |  | Surfactants, related adjuvants of surfactants
Polyethylene, conforming to 21 CFR 177.1520(c) |  | Binder, carrier, and coating agent
Polyethylene glycol[α-hydro-ω-hydroxypoly(oxyethylene)]; mean molecular weight (in amu) 194 to 9,500 conforms to 21 CFR 178.3750 |  | Surfactants, related adjuvants of surfactants
Polyglycerol esters of fatty acids conforming to 21 CFR 172.854 |  | Surfactants, related adjuvants of surfactants
Polyglyceryl phthalate ester of coconut oil fatty acids |  | Do.
Poly(methylene-p-tert-butylphenoxy)-poly(oxyethylene) ethanol; the poly(oxyethylene) content averages 4-12 moles |  | Coating agent
Poly(methylene-p-nonylphenoxy)poly (oxyethylene) ethanol; the poly(oxyethylene) content averages 4-12 moles |  | Coating agent
Poly(oxy-1,2-ethanediyl), α-(carboxymethyl)-ω-(nonylphenoxy) produced by the condensation of 1 mole of nonylphenol (nonyl group is a propylene trimer isomer) with an average of 4-14 or 30-90 moles of ethylene oxide. The molecular weight (in amu) ranges are 454-894 and 1598-4238 |  | Surfactant
Polyoxyethylene (20) sorbitan monostearate |  | Surfactants, related adjuvants of surfactants
[Poly[oxy(methyl-1,2-ethanediyl)], α-[2-bis(2-hydroxyethyl)amino]propyl]-ω-hydroxy,-ether with α-hydro-ω-hydroxypoly(oxy-1,2-ethanediyl) (1:2), mono-C12-16 alkyl ethers, (CAS Reg. No. 176022-82-5) | Not to exceed 15% in the formulated product; only for use with glyphosate | Surfactant
Polysorbate 65, conforming to 21 CFR 172.838 |  | Emulsifier
Potassium aluminum silicate |  | Solid diluent, carrier
Potassium hydroxide |  | Neutralizer
Potassium phosphate |  | Buffer
Potassium sulfate |  | Solid diluent
Propane |  | Propellant
n-Propanol |  | Solvent, cosolvent
2-Propenoic acid, 2-methyl-, polymer with ethyl 2-propenoate and methyl 2-methyl-2-propenoate, ammonium salt (CAS Registration No. 55989-05-4), minimum number average molecular weight (in amu), 18,900. |  | Encapsulating agent, dispensers, resins, fibers and beads
Propionic acid |  | Catalyst
Propylene glycol |  | Solvent, cosolvent.
Propylene glycol alginate (as defined in 21 CFR 172.858) |  | Defoaming agent
Propyl gallate |  | Antioxidant
Propyl p-hydroxybenzoate |  | Preservative for formulations
Pyrophyllite |  | Solid diluent, carrier
Rhizobium inoculants (e.g. Sinorhizobium, Bradyrhizobium & Rhizobium) |  | All leguminous food commodities
Rosin, partially dimerized (as defined in 21 CFR 172.615) |  | Surfactants, related adjuvants of surfactants
Rosin, partially hydrogenated (as defined in 21 CFR 172.615) |  | Do.
Rosin, wood |  | Do.
Salts of fatty acids, conforming to 21 CFR 172.863 |  | Binder, emulsifier, anticaking agent
Sand |  | Solid diluent, carrier
Secondary alkyl (C11-C15) poly(oxyethylene) acetate, sodium salt; the ethylene oxide content averages 5 moles |  | Surfactant
Shellac, bleached; refined, food grade, arsenic and rosin-free |  | Coating agent
Soap (sodium or potassium salts of fatty acids) |  | Surfactant, emulsifier, wetting agent
Soapstone |  | Solid diluent
Sodium acid pyrophosphate |  | Surfactant, suspending agent, dispersing agent, buffer
Sodium α-olefinsulfonate (sodium C14-C16) (Olefin sulfonate) |  | Surfactants, related adjuvants of surfactants
Sodium aluminum silicate |  | Solid diluent, carrier
Sodium benzoate |  | Anticaking agent
Sodium bicarbonate |  | Neutralizer
Sodium diisobutylnaphthalenesulfonate |  | Surfactants, related adjuvants of surfactants
Sodium dioctylsulfosuccinate |  | Do.
Sodium dodecylphenoxybenzenedisulfonate |  | Do.
Sodium hexametaphosphate |  | Surfactant, emulsifier, wetting agent, suspending agent, dispersing agent, buffer
Sodium hydroxide |  | Neutralizer
Sodium isopropylisohexylnaphthalenesulfonate |  | Surfactants, related adjuvants of surfactants
Sodium N-lauroyl-N-methyltaurine |  | Do.
Sodium lauryl glyceryl ether sulfonate |  | Do.
Sodium metasilicate |  | Surfactants, emulsifiers, wetting agents, dispersing agents, buffer
Sodium monoalkyl and dialkyl (C8-C16) phenoxybenzenedisulfonate mixtures containing not less than 70% of the monoalkylated product |  | Surfactants, related adjuvants of surfactants
Sodium mono- and dimethyl naphthalenesulfonates, molecular weight (in amu) 245-260 |  | Do.
Sodium mono-, di-, and tributyl naphthalenesulfonates |  | Do.
Sodium mono-, di-, and triisopropyl naphthalenesulfonate |  | Do.
Sodium N-oleoyl-N-methyltaurine |  | Do.
Sodium oleyl sulfate |  | Do.
Sodium N-palmitoyl-N-methyltaurine |  | Do.
Sodium propionate |  | Preservative for formulation
Sodium salt of sulfated oleic acid |  | Surfactants, related adjuvants of surfactants
Sodium silicate |  | Surfactant, emulsifier, wetting agent, stabilizer, inhibitor
Sodium starch glycolate (CAS Reg. No. 9063-38-1) | Granular and tableted products only; not to exceed 8% of the formulated product | Disintegrant
Sodium sulfate |  | Solid diluent, carrier
Sodium sulfite |  | Stabilizer
Sodium thiosulfate anhydrous (CAS Reg. No.7772-98-7 or sodium thiosulfate pentahydrate,CAS Reg. No. 10102-17-7) | Not to exceed 6% of the formulated product | Dechlorinator, reducing agent
Sodium tripolyphosphate |  | Buffer, surfactant, suspending agent, dispersing agent, anticaking agent, conditioning agent
Sorbitan fatty acid esters (fatty acids limited to C12, C14, C16, and C18 containing minor amounts of associated fatty acids) and their derivatives; the poly(oxyethylene) content averages 5-20 moles |  | Surfactants, related adjuvants or surfactants.
Sorbic acid (and potassium salt) |  | Preservative for formulations
Sorbitol |  | Antidusting agent
Soy protein, isolated | Expires May 24, 2005 | Adhesive
Soybean flour | Expires May 24, 2005. | Surfactant
Soybean oil-derived fatty acids |  | Solvent, cosolvent
Sperm oil conforming to 21 CFR 172.210 |  | Coating agent
Stearic acid |  | Diluent
α-Stearoyl-ω-hydroxypoly(oxyethylene), average molecular weight (in amu) of 600 |  | Emulsifier
α-Stearoyl-ω-hydroxypoly(oxyethylene); the poly(oxyethylene) content averages either 8, 9, or 40 moles; if a blend of products is used, the average number of moles ethylene oxide reacted to produce any product that is a component of the blend shall be either 8, 9, or 40 |  | Surfactants, related adjuvants of surfactants
Sucrose octaacetate |  | Adhesive
Sulfuric acid (CAS Reg. No. 7664-93-9) that meets the Food Chemicals Codex specifications | 0.1% of pesticide formulation | pH control agent
Sulfurous acid |  | Preservative
Synthetic paraffin and its succinic derivatives conforming to 21 CFR 172.275 |  | Carrier, binder, and carrying agent
Synthetic petroleum wax, conforming to 21 CFR 172.888 |  | Binder, carrier, and coating agent
Talc |  | Solid diluent, carriers
Tall oil; fatty acids not less than 58%, rosin acids not more than 44%, unsaponifiables not more than 8% |  | Surfactants, related adjuvants of surfactants
Tartrazine |  | Dye
1,1,1,2-Tetrafluoroethane, (CAS Reg. No. 811-97-2) |  | Aerosol propellant
Tetrahydrofurfuryl alcohol |  | Solvent cosolvent
α-[p-(1,1,3,3-Tetramethylbutyl)phenyl]-ω-hydroxypoly(oxyethylene) produced by the condensation of 1 mole of p-(1,1,3,3-tetramethylbutyl)phenol with a range of 1-14 or 30-70 moles of ethylene oxide: if a blend of products is used, the average range number of moles of ethylene oxide reacted to produce any product that is a component of the blend shall be in the range of 1-14 or 30-70 |  | Surfactants, related adjuvants of surfactants
α-[p-(1,1,3,3-Tetramethylbutyl) phenyl]-ω-hydroxypoly(oxyethylene) produced by the condensation of 1 mole of p-(1,1,3,3-tetramethylbutyl) phenol with an average of 4-14 or 30-70 moles of ethylene oxide; if a blend of products is used, the average number of moles of ethylene oxide reacted to produce any product that is a component of the blend shall be in the range of 4-14 or 30-70 |  | Do.
2,4,7,9-Tetramethyl-5-decyn-4, 7-diol | Not more than 2.5% of pesticide formulation | Surfactants, related adjuvants of surfactants
Tetrasodium pyrophosphate |  | Anticaking agent, conditioning agent
Tricalcium phosphate |  | Surfactant, suspending agent, dispersing agent, anticaking agent, conditioning agent
1,1,1-Trichloroethane |  | Solvent, cosolvent
Trichlorofluoromethane |  | Propellant
Tridecylpoly(oxyethylene) acetate, sodium salt; where the ethylene oxide content averages 6-7 moles |  | Surfactants, related adjuvants of surfactants
Trisodium phosphate |  | Surfactant, emulsifier, wetting agent
Vermiculite |  | Solid diluent, carrier.
Walnut shells |  | Leaching inhibitor, binder for water-dispersible aggregates, sticker and suspension stabilizer
Wheat, including flour, bran, and starch | Expires May 24, 2005. | Solid diluent carrier, attractant
Wheat bran |  | Do.
Wintergreen oil |  | Attractant
Wood flour | Derived from wood free of chemical preservatives | Solid diluent and carrier
Xanthan gum-modified, produced by the reaction of xanthan gum and glyoxal (maximum 0.3% by weight) | Not more than 0.5% of pesticide formulation | Surfactant
Xylene meeting the specifications listed in 21 CFR 172.884(b)(4) | In pesticide formulations for grain storage only | Solvent, cosolvent
Zeolite (hydrated alkali aluminum silicate) |  | Solid diluent, carrier
Zinc oxide |  | Coating agent
Zinc sulfate (basic and monohydrate) |  | Do.
Zinc sulfate (basic and monohydrate) |  | Solid diluent, carrier

10. Section 180.920 is added to subpart D to read as follows:

§ 180.920 Inert ingredients used pre-harvest; exemptions from the requirement of a tolerance.

The following materials are exempted from the requirement of a tolerance when used in accordance with good agricultural practice as inert (or occasionally active) ingredients in pesticide formulations applied to growing crops only:

Inert ingredients | Limits | Uses
Acetonitrile | Not more than 0.5% of pesticide formulation | Solvent for blended emulsifiers in all pesticides used before crop emerges from soil and in herbicides before or after crop emerges
Acetophenone |  | Attractant
Adenosine (CAS Reg. No. 58-61-7) | Maximum of 0.5% of formulation | Synergist
Alder bark |  | Seed germination stimulator
α-Alkyl (C12-C18)-ω-hydroxypoly(oxyethylene) copolymers with poly(oxypropylene); polyoxyethylene content averages 3-12 moles and polyoxypropylene content 2-9 moles |  | Surfactants, related adjuvants of surfactants
α-Alkyl (C10-C16)-ω-hydroxypoly(oxyethylene) mixture of dihydrogen phosphate and monohydrogen phosphate esters and the corresponding ammonium, calcium, magnesium, monoethanolamine, potassium, sodium, and zinc salts of the phosphate esters; the poly(oxyethylene) content averages 3-20 moles |  | Surfactants, related adjuvants of surfactants
α-Alkyl (C12-C15)-ω-hydroxypoly(oxyethylene) sulfosuccinate, isopropylamine and N-hydroxyethyl isopropylamine salts of; the poly(oxyethylene) content averages 3-12 moles | Not more than 0.2% in the final solution | Emulsifiers in pesticide concentrates applied with liquid fertilizer solutions before crop emerges from soil or not later than 4 weeks after planting
α-Alkyl(C10-C12)-ω-hydroxpoly(oxyethylene) poly(oxypropylene) copolymer; poly(oxyethylene) content is 11-15 moles; poly(oxyproplene) content is 1-3 moles |  | Surfactants, related adjuvants of surfactants.
α-Alkyl(C12-C18)-ω-hydroxypoly(oxyethylene/oxypropylene) hetero polymer in which the oxyethylene content averages 13-17 moles and the oxypropylene content averages 2-6 moles |  | Do.
α-Alkyl (C10-C16)-ω-hydroxypoly (oxyethylene)poly(oxypropylene) mixture of di- and monohydrogen phosphate esters and the corresponding ammonium, calcium, magnesium, monoethanolamine, potassium, sodium, and zinc salts of the phosphate esters; the combined poly(oxyethylene) poly(oxypropylene) content averages 3-20 moles |  | Do.
α-Alkyl (C12-C18)-ω-hydroxypoly(oxyethylene/oxypropyl­ene) hetero polymer in which the oxyethylene content is 8-12 moles and the oxypropylene content is 3-7 moles |  | Do.
α-Alkyl (C12-C15)-ω-hydroxypoly(oxyethylene/oxypropylene) hetero polymer in which the oxyethylene content is 8-13 moles and the oxypropylene content is 7-30 moles |  | Solvent, cosolvent, surfactant, and related adjuvants of surfactants
α-Alkyl (C21-C71)-ω-hydroxypoly (oxyethylene) in which the poly(oxyethylene) content is 2 to 91 moles and molecular weight range from 390 to 5,000 | Not to exceed 10% | Wetting agent or granule coating
n-Alkyl(C8-C18)amine acetate |  | Surfactants, related adjuvants of surfactants
Almond, bitter |  | Attractant
Aluminum 2-ethylhexanoate | Not more than 0.25% of pesticide formulation | Gelling agent
Aluminum sulfate |  | Safener adjuvant
Amine salts of alkyl(C8-C24) benzenesulfonic acid (butylamine, dimethylaminopropylamine, mono- and diisopropylamine, mono-, di-, and triethanolamine) |  | Surfactants, related adjuvants of surfactants
N-(Aminoethyl) ethanolamine salt of dodecylbenzenesulfonic acid | For use only in liquid emulsifiable herbicide concentrates | Do.
Ammonium nitrate (CAS Reg. No. 6484-52-2) |  | Adjuvant/ intensifier for herbicides
Ammonium polyphosphate (CAS Reg. No. 68333-79-9) |  | Sequestrant, buffer, or surfactant
Ammonium thiocyanate |  | Adjuvant/intensifier for defoliation of, and weed control in/on cotton and soybeans
Animal waste material (produced by the thermophilic digestion of cattle and poultry manure) | E. coli and Salmonella free; heavy metal content not to exceed the following: Material/Concentration (ppm): As/12.5; Cd/12.0; Cu/14.0; Pb/17.0; Hg/0.1; Se/0.2 | Carrier
Barium sulfate |  | Carrier
1,2-Benzisothiazolin-3-one | Not more than 0.1% of formulation. Not more than 0.02 lb to be applied per acre | Preservative/stabilizer
N,N-Bis[α-ethyl-ω-hydroxypoly(oxyethylene) alkylamine; the poly(oxyethylene) content averages 3 moles; the alkyl groups (C14-C18) are derived from tallow, or from soybean or cottonseed oil acids |  | Surfactants for preemergence use with herbicides on sugarcane only
N,N-Bis(2-hydroxyethyl)alkylamine, where the alkyl groups (C8-C18) are derived from coconut, cottonseed, soya, or tallow acids |  | Surfactants, related adjuvants of surfactants
N,N-Bis 2-(ω-hydroxypolyoxyethylene) ethyl) alkylamine; the reaction product of 1 mole N,N-bis(2-hydroxyethyl)alkylamine and 3-60 moles of ethylene oxide, where the alkyl group (C8-C18) is derived from coconut, cottonseed, soya, or tallow acids |  | Do.
N,N-Bis-2-(ω-hydroxypolyoxyethylene/polyoxypropylene) ethyl alkylamine; the reaction product of 1 mole of N,N-bis(2-hydroxyethyl alkylamine) and 3-60 moles of ethylene oxide and propylene oxide, where the alkyl group (C8-C18) is derived from coconut, cottonseed, soya, or tallow acids |  | Surfactant, related adjuvants of surfactants
Boric acid |  | Sequestrant
Buffalo gourd root powder (Cucurbita foetidissima root powder); or, Zucchini juice (Cucurbita pepo juice) or Hawkesbury melon Citrullus lanatus. | No more than 2.5 lbs/acre/season (3.4 gm/acre/season of Cucurbitacin) | Gustatory stimulant
Butoxytriethylene glycol phosphate |  | Surfactants for arsenical herbicide formulations only
1,3-Butylene glycol dimethyacrylate | Not more than 0.1% of pesticide formulation | Stabilizer
Butyl stearate |  | Defoamer
γ-Butyrolactone |  | Solvent
C.I. Pigment Blue #15 (CAS Reg. No. 147-14-8; containing no more than 50 ppm polychlorinated biphenyls (PCBs)) | For seed treament use only | Dye, coloring agent
C.I. Pigment Green #7 (CAS Reg. No. 1328-53-6; containing no more than 50 ppm polychlorinated biphenyls (PCBs)) | For seed treatment use only | Dye, coloring agent
C.I. Pigment Violet #23 (CAS Reg. No. 6358-30-1; containing no more than 20 ppb of polychlorinated dibenzo-p-dioxins and/or polychlorinated dibenzofurans) | For seed treatment use only | Dye, coloring agent
Calcium and sodium salts of certain sulfonated petroleum fractions (mahogany soaps); calcium salt molecular weight (in amu) 790-1,020, sodium salt molecular weight (in amu) 400-500 |  | Surfactants, related adjuvants of surfactants
Camphor (CAS Reg. No. 76-22-2) | Not more than 5% weight to weight (w/w) of pesticide formulations | Deodorant, melting point adjustment
Carous chloride | 10 ppm in formulation | Tagging agent
Carrageenan, conforming to 21 CFR 172.260 | Not more than 0.15% of pesticide formulation | Thickener and stabilizer for pesticide formulations applied to seeds before planting
Chlorobenzene | Contains not more than 1% impurities. Not for use after edible parts of plant begin to form. Do not graze livestock in treated areas within 48 hours after application | Solvent, cosolvent
5-Chloro-2-methyl-4-isothiazolin-3-one (in combination with 2-methyl-4-isothiazolin-3-one) | Not more than 0.0022% (22.5 ppm) in the formulation; 0.00022% (or 2.25 ppm) in the final solution applied to growing crops | Preservative
Condensation product of orthophenylphenol with 5 moles of ethylene oxide |  | Stabilizer.
Copper naphthenate | Not more than 2.5% of formulation; application limited to before edible portions of plants begin to form | Mercaptan scavenger in technical pesticide
Copper salts of neodecanoic acid and 2-ethylhexanoic acid | Not more than 1% of formulation; application limited to before edible portions of plants begin to form | Do.
Cyclohexane |  | Solvent, cosolvent
Cyclohexanol |  | Do.
Cyclohexanone |  | Do.
Cysteine (CAS Reg. No. 52-90-4) | Maximum of 0.5% of formulation | Synergist
D&C Green No. 6 |  | Dye
D&C Red No. 17, technical grade |  | Dye
D&C Red No. 33 (CAS Reg. No. 3567-66-6); meeting the specifications listed in 21 CFR 74.1333 |  | Dye
D&C Violet No. 2, technical grade | Not more than 0.005% of pesticide formulation | Dye
n-Decyl alcohol |  | Do.
Diacetone alcohol |  | Deactivator, solvent for formulations used before crop emerges from soil
Diallyl phthalate | Not more than 0.1% of pesticide formulation | Stabilizer
Diammonium phosphate (CAS Reg. No. 7783-28-0) |  | Buffer, surfactant
α-(Di-sec-butyl)phenylpoly(oxypropylene) block polymer with poly(oxyethylene); the poly(oxypropylene) content averages 4 moles, the poly(oxyethylene) content averages 5 to 12 moles, the molecular |  | Surfactants, related adjuvants of surfactants
Diethanolamine |  | Stabilizer, inhibitor for formulations used before crop emerges from soil
Diethylene glycol |  | Deactivator, adjuvant for formulations used before crop emerges from soil
Diethylene glycol and diethylene glycol monobutyl, monoethyl, and monomethyl ethers |  | Deactivator for formulations used before crop emerges from soil, stabilizer
3,6-Dimethyl-4-octyn-3,6-diol | In pesticide formulations, for soil prior to planting or to plants before edible parts form | Surfactants, related adjuvants of surfactants
Dimethyl sulfoxide |  | Solvent or cosolvent for formulations used before crop emerges from soil or prior to formation of edible parts of food plants
Dipotassium hydrogen phosphate |  | Buffering agent
Dipropylene glycol dibenzoate | For seed treatment use only | Solvent, cosolvent
Dipropylene glycol monomethyl ether |  | Stabilizer
Disodium 4-isodecyl sulfosuccinate |  | Surfactants related adjuvants of surfactants.
Dodecylphenol |  | Coupling agent in emulsifier
α-Dodecylphenol-ω-hydroxypoly(oxyethylene/oxypropylene) hetero polymer where ethylene oxide content is 11-13 moles and oxypropylene content is 14-16 moles, molecular weight (in amu) averages 600 to 965 |  | Surfactants, related adjuvants of surfactants
Douglas-fir bark, ground |  | Solid diluent, carrier
Dysprosium chloride | 10 ppm in formulation | Tagging agent
Ethylene glycol |  | Antifreeze, deactivator for all pesticides used before crop emerges from soil and in herbicides before or after crop emerges
Ethylene glycol monobutyl ether |  |
Ethylene glycol monomethyl ether |  | Solvent for formulations used before crop emerges from soil
2-Ethylhexanol |  | Cosolvent, defoamer, solvent for all pesticides used before crop emerges from soil and in herbicides before or after crop emerges
Ethyl methacrylate |  | Surfactants, related adjuvants of surfactants
Europic chloride | 10 ppm in formulation | Tagging agent
FD&C Red No. 40 (CAS Reg. No. 25956-17-6) | For seed treatment use only. Not to exceed 2% by weight of the pesticide formulation | Dye, coloring agent
Ferric chloride |  | Not greater than 2% of suspending, dispersing agent, pesticide formulation
Fluoroapatite |  | Solid diluent, carrier
Folic acid (CAS Reg. No. 59-30-3) | Maximum of 0.5% of formulation | Synergist
Furfural byproduct (a granular steam-acid sterilized, lignocellulosic residuum in the extraction of furfural from corn cobs, sugarcane bagasse, cottonseed hulls, oat hulls, and rice hulls) |  | Solid diluent, carrier
Gluconic acid (and sodium salt) |  | Sequestrant
l-Glutamic acid (C5 H9 NO4; CAS Reg. No. 56-86-0) | Seet treatment use only | Plant nutrient
Glutamine (CAS Reg. No. 56-85-9) | Maximum of 0.5% of formulation | Synergist
Glycerol—propylene oxide polymer (CAS Reg. No. 25791-96-2) |  | Component in water-soluble film
Glyceryl triacetate |  | Stabilizer
Glyceryl tris-12-hydroxystearate |  | Flow control agent
Graphite |  | Treatment aid for seeds
Hexamethylenetetramine |  | Stabilizer for carriers in solid pesticide formulations
2-Hydroxy-4-n-octoxybenzophenone (CAS Reg. No. 1843-05-6) | Not more than 0.2 pt of pesticide formulation | Light stabilizer
Hydroxypropyl guar gum |  | Thickener
Isoamyl acetate | Not more than 0.5% of pesticide formulation | Odor-masking agent
Isobornyl acetate |  | Solvent
Isobutyl alcohol |  | Do.
Isobutylene-butene copolymers | For soil application only | Binder
Isooctadecanol | Not more than 2% of pesticide formulation | Defoaming agent
Isophorone (CAS Reg. No. 78-59-1) |  | Solvent, cosolvent
Isopropylbenzene |  | Solvent, cosolvent
Isopropylbenzenesulfonic acid and its ammonium, calcium, magnesium, potassium, sodium, and zinc salts |  | Surfactants and related adjuvants of surfactants
Lanthanum chloride | 10 ppm in formulation | Tagging agent.
(3-Lauramidopropyl) trimethylammonium methyl sulfate | Not more than 2.6% in the formulation. Not to be applied within 7 days of harvest | Antistatic agent
Linoleic diethanolamide (CAS Reg. No. 56863-02-6) |  | Surfactant
Magnesium nitrate (in combination with 2-methyl-4-isothiazolin-3-one and 5-chloro-2-methyl-4-isothiazolin-3-one) | None | Preservation
Maleic acid and maleic anhydride | For pesticide formulations applied to apples with a minimum preharvest interval of 21 days | Stabilizer
Manganese carbonate |  | Plant nutrient
Mesityl oxide | Not for use after edible parts of plant begin to form. Do not graze livestock in treated areas within 48 hours after application | Solvent, cosolvent
Methionine (CAS Reg. No. 59-51-8) | Maximum of 0.5% of formulation | Synergist
Methyl alcohol |  | Do.
Methyl bis(2-hydroxyethyl)alkyl ammonium chloride, where the carbon chain (C8-C18) is derived from coconut, cottonseed, soya, or tallow acids |  | Surfactant
α,α′-[Methylenebis]-4-(1,1,3,3-tetramethylbutyl)-o-phenylene bis[ω-hydroxypoly(oxyethylene)] having 6-7.5 moles of ethylene oxide per hydroxyl group |  | Solvent, cosolvent, surfactant, and related adjuvants of surfactants
Methylene blue |  | Dye for formulations used on cotton
Methyl ethyl ketone |  | Surfactant
Methyl p- hydroxybenzoate |  | Preservative for formulations
Methyl isoamyl ketone |  | Solvent, cosolvent
Methyl isobutyl ketone |  | Do.
2-Methyl-4-isothiazolin-3-one (in combination with 5-chloro-2-methyl-4-isothiazolin-3-one) | Not more than 0.0022% (22.5 ppm) in the formulation; 0.00022% (or 2.25 ppm) in the final solution applied to growing crops | Preservative
Methyl methacrylate |  | Surfactants, related adjuvants of surfactants
Methylnaphthalenesulfonic acid—formaldehyde condensate, sodium salt |  | Dispersant
Methyl oleate |  | Surfactant
2-Methyl-2,4-pentanediol |  | Solvent for formulations used before crop emerges from soil
Methyl poly(oxyethylene) alkyl ammonium chloride, where the poly(oxyethylene) content is 3-15 moles and the alkyl group (C8-C18) is derived from coconut, cottonseed, soya, or tallow acids |  | Surfactant
N-Methylpyrrolidone (CAS Reg. No. 872-504) |  | Solvent, cosolvent
Methyl violet 2B |  | Dye
Mixed phytosterols (consisting of campesterol, sitosterol and stigmasterol, with minor amounts of associated plant sterols) derived from edible vegetable oils |  | Surfactant.
Mono- and bis-(1H, 1H, 2H, 2H-perfluoroalkyl) phosphates where the alkyl group is even numbered and in the C6-C12 range | Not more than 0.5% of pesticide formulation | Defoaming agent
Mono- and dialkyl (C8-C18) methylated ammonium chloride compounds, where the alkyl group(s) (C8-C18) are derived from coconut, cottonseed, soya, tallow, or hogfat fatty acids |  | Surfactants, related adjuvants of surfactants
Morpholine salt of dodecylbenzenesulfonic acid |  | Do.
Naphthalenesulfonic acid-formaldehyde condensate, ammonium and sodium salts |  | Do.
Nicotinamide (CAS Reg. No. 98-92-0) | Maximum of 0.5% of formulation | Synergist
α-(p-Nonylphenyl)-ω-hydroxypoly(oxyethylene); produced by the condensation of 1 mole of nonylphenol (nonyl group is a propylene trimer isomer) with an average of 4-14 or 30-100 moles of ethylene oxide; if a blend of products is used, the average number of moles of ethylene oxide reacted to produce any product that is a component of the blend shall be in the range 4-14 or 30-100 |  | Surfactant
X-(p- Nonylphenyl)-ω-hydroxy-poly(oxyethylene) sulfosuccinate isopropylamine and N-hydroxyethyl isopropylamine salts of: the poly(oxyethylene) content averages r moles | Not more than 0.2% in the final solution | Emulsifiers in pesticide concentrates applied with liquid fertilizer solutions before crop emerges from soil or not later than 4 weeks after planting
n- Octyl alcohol |  | Solvent, cosolvent
α-Oleoyl-ω-(oleoyloxy) poly(oxyethylene) derived from α-hydro-ω-hydroxypoly(oxyethylene) (molecular weight 600 amu) |  | Component of defoamers
Oxo-decyl acetate (CAS reg. No. 108419-33-6) |  | Solvent
Oxo-heptyl acetate (CAS Reg. No. 90438-79-2) |  | Solvent
Oxo-hexyl acetate (CAS Reg. No. 88230-35-7) |  | Solvent
Oxo-nonyl acetate (CAS Reg. No. 108419-34-7) |  | Solvent
Oxo-octyl acetate (CAS Reg. No. 108419-32-5) |  | Solvent
Oxo-tridecyl acetate (CAS Reg. No. 108419-35-8) |  | Solvent
Paraformaldehyde | Not more than 2% of pesticide formulation | Preservative for formulation
Partial sodium salt of N- lauryl-α-iminodipropionic acid | Not more than 1% of pesticide formulation | Surfactants, related adjuvants of surfactants
Phenol |  | Solvent, cosolvent
Phenolic resins | Soil applications | Binding agent
Phenolsulfonic acid—formaldehyde—urea condensate and its sodium salt | Applied to growing plants only | Dispersant surfactant
(Phthalocyaninato (2)) copper; (C.I. pigment blue No. 15) | When used as a colorant in low-density plastic films | Coloring agent, pigment
Pigment red 48 | For seed treatment use only | Dye
α-Pinene | Not more than 2% of formulation by weight | Stabilizer
Poly(methylene-p- nonylphenoxy)poly(oxypropylene) propanol; the poly(oxy-propylene) content averages 4-12 moles |  | Encapsulating agent
Poly(oxyethylene) adducts of mixed phytosterols (such sterols to consist of campesterol, stigmasterol and sitosterol with minor amounts of associated plant sterols) derived from edible vegetable oils; polyoxyethylene content averaging 5-26 moles |  | Surfactant, related adjuvants
Poly(oxyethylene) (5) sorbitan monooleate |  | Surfactants, related adjuvants of surfactants
Polysorbate 60, conforming to 21 CFR 172.836 |  | Surfactant
Potassium carbonate |  | Buffering agent
Potassium dihydrogen phosphate |  | Do.
Primary n-alkylamines, where the alkyl group (C8-C18) is derived from coconut, cottonseed, soya, or tallow acids |  | Surfactant
Propylene dichloride |  | Solvent for formulations used before crop emerges from soil
Propylene glycol monomethyl ether |  | Solvent
Pyridoxine (CAS Reg. No. 65-23-6) | Maximum of 0.5% of formulation | Synergist
Rosin, dark wood (as defined in 21 CFR 178.3870(a)(1)(v)) |  | Surfactants, related adjuvants of surfactants
Rosin, gum |  | Do.
Rosin, tall oil |  | Do.
Scandium chloride | 10 ppm in formulation | Tagging agent
Sodium bisulfate (CAS Reg. No. 7681-38-1) |  | Acidifying/buffering agent
Sodium butyl naphthalenesulfonate |  | Surfactants, related adjuvants of surfactants
Sodium caseinate | Expires May 24, 2005. | Suspending agent and binder
Sodium 1,4-dicyclohexyl sulfosuccinate |  | Surfactants, related adjuvants of surfactants
Sodium 1,4-dihexyl sulfosuccinate |  | Do.
Sodium dihydrogen phosphate (CAS Reg. No. 7558-80-7) conforming to 21 CFR 182.6778 |  | Buffering agent
Sodium 1,4-diisobutyl sulfosuccinate |  | Surfactants, related adjuvants of surfactants
Sodium 1,4-dipentyl sulfosuccinate |  | Do.
Sodium 1,4-ditridecyl sulfosuccinate |  | Do.
Sodium fluoride | Not more than 0.25% of pesticide formulation | Stabilizer carrier for formulations used before crop emerges from soil
Sodium metaborate |  | Sequestrant
Sodium molybdate |  | Plant nutrient
Sodium mono- and dimethyl naphthalenesulfonate; molecular weight (in amu) 245-260 |  | Surfactants, related adjuvants of surfactants
Sodium nitrate |  | Solid diluent
Sodium nitrite | Not more than 3% of pesticide formulation | Stabilizer, inhibitor.
Sodium o-phenylphenate | Not more than 0.1% of pesticide formulation | Preservative for formulation
Sodium salt of the insoluble fraction of rosin |  | Surfactants, related adjuvants of surfactants
Sodium salt of partially or completely saponified dark wood rosin (as defined in 21 CFR 178.3870(a)(4)) |  | Surfactants, related adjuvants of surfactants
Sodium tetraborate | Not more than 2% of pesticide formulation | Buffering agent; corrosion inhibitor
Sulfosuccinic acid ester with N-(2,-hydroxy-propyl) oleamide, ammonia and isopropylamine salts of | Not more than 0.2% in the final solution | Emulsifiers in pesticide concentrates applied with liquid fertilizer solutions before crop emerges from soil or not later than 4 weeks after planting
Tall oil diesters with polypropylene glycol (CAS Reg. No. 68648-12-4) |  | Component in water-soluble film
Tannin |  | Dispersing agent
Tertiary butylhydroquinone |  | Antioxidant
1-Tetradecanamine, N,N-dimethyl-, N-oxide (CAS Reg. No. 3332-27-2) |  | Component in water-soluble film
N,N,N′,N″-Tetrakis-(2-hydroxypropyl) ethylenediamine |  | Stabilizer for formulations used before crop emerges from soil
α-[p-(1,1,3,3-Tetramethylbutyl)phenyl]-ω-hydroxypoly(oxyethylene) mixture of dihydrogen phosphate and monohydrogen phosphate esters and the corresponding sodium salts of the phosphate esters; the poly(oxyethylene) content averages 6 to 10 moles |  | Surfactants, related adjuvants of surfactants
2,4,7,9-Tetramethyl-5-decyne 4,7-diol | In pesticide formulations, for application to soil prior to planting or to plants before edible parts form | Do.
Tetrapotassium pyrophosphate (CAS Reg. No. 7320-345) | Not to exceed 10% of formulation | Sequestrant, anticaking agent, conditioning agent
Tetrasodium N-(1,2-dicarboxyethyl)-N-octadecyl-sulfosuccinamate |  | Do.
[2,2′(2,5-Thiophenediyl) bis (5-tert-butylbenzoxazole)] (CAS Reg. Number 7128-64-5) | 10 ppm in pesticide formulations | Quality control agent
Titanium dioxide (CAS Reg. No. 13463-67-7) |  | Pigment/coloring agent in plastic bags used to wrap growing banana (preharvest), colorant on seeds for planting
Toluene |  | Solvent, cosolvent
Toluenesulfonic acid and its ammonium, calcium, magnesium, potassium, sodium, and zinc salts |  | Do.
Tri-tert- butylphenol polyglycol ether (molecular weight (in amu) 746) |  | Surfactant for formulations used before crop emerges from soil
Triethanolamine |  | Stabilizer, inhibitor for formulations used before crop emerges from soil
Triethylene glycol |  | Deactivator
Triethyl phosphate |  | Stabilizer for formulations used before crop emerges from soil
Trimethylolpropane (CAS Reg. No. 77-66-9) | Not more than 15% of the pesticide formulation | Component of water-soluble film
Trimethylolpropane (CAS Reg. No. 77-99-6) | Not to exceed 15% by weight of the film | Component in water-soluble film
α-[2,4,6-Tris[1-(phenyl)ethyl]phenyl]-ω-hydroxy poly(oxyethylene), the poly(oxyethylene) content averages 4-150 moles) | Not more than 15% of the formulation | Surfactant.
α-[2,4,6-Tris[1-(phenyl)ethyl]phenyl]-ω-hydroxy poly(oxyethylene); mixture of monohydrogen and dihydrogen phosphate esters and the corresponding ammonium, calcium, magnesium, potassium, sodium, and zinc salts, the poly(oxyethylene) content averages 4-150 moles) | Not more than 15% of the formulation | Do.
α-[2,4,6-Tris[1-(phenyl)ethyl]phenyl]-ω-hydroxy poly(oxyethylene) sulfate, and the corresponding ammonium, calcium, magnesium, potassium, sodium, and zinc salts, the poly(oxyethylene) content averages 4-150 moles | Not more than 15% of the pesticide formulation | Do.
Tryptophan (CAS Reg. No. 73-22-3) | Maximum of 0.5% of formulation | Synergist
Valeric acid, normal | Not more than 2% in pesticide formulations | Stenching agent or odorant
Vanillin |  | Attractant
Woolwax alcohols |  | Safener
Xylene |  | Solvent, cosolvent
Xylenesulfonic acid its ammonium calcium, magnesium, potassium, sodium, and zinc salts |  | Surfactants, related adjuvants of surfactants
Yucca extract from Yucca schidigera |  | Wetting agent
Ytterbium chloride | 10 ppm in formulation | Tagging agent
Yttrium chloride | 10 ppm in formulation | Tagging agent
Zinc orthophosphate |  | Plant nutrient and safener
Zinc stearate, conforming to 21 CFR 182.5994 and 582.5994 |  | Flow control agent

11. Section 180.930 is added to subpart D to read as follows:

§ 180.930 Inert ingredients applied to animals; exemptions from the requirement of a tolerance.

The following materials are exempted from the requirement of a tolerance when used in accordance with good agricultural practice as inert (or occasionally active) ingredients in pesticide formulations applied to animals:

Inert ingredients | Limits | Uses
Acetic acid (CAS Reg. No. 64-19-7) | Not more than 0.5% of pesticide formulation | Catalyst
Acetic anhydride |  | Solvent, cosolvent, stabilizer
Acetyl tributyl citrate (CAS Reg. No. 77-90-7) |  | Component of plastic animal tags
Acetylated lanolin alcohol |  | Moisturizer
Alkanoic and alkenoic acids, mono- and diesters of α-hydro-ω-hydroxypoly(oxyethylene) with molecular weight (in amu) range of 200 to 6,000 |  | Emulsifiers
Alkyl (C8-C24) benzenesulfonic acid and its ammonium, calcium, magnesium, potassium, sodium, and zinc salts |  | Surfactants, emulsifier, related adjuvants of surfactants
α-Alkyl (C9-C18)-ω-hydroxy poly(oxyethylene): the poly(oxyethylene) content averages 2-20 moles |  | Solvent, cosolvent, surfactant, and related adjuvants of surfactants
α-Alkyl (C12- C15)-ω-hydroxypoly(oxyethylene/oxypropylene) hetero polymer in which the oxyethylene content is 8-13 moles and the oxypropylene content is 7-30 moles |  | Solvent, cosolvent, surfactant, and related adjuvants of surfactants
α-Alkyl (C8-C10) hydroxypoly(oxypropylene) block polymer with polyoxyethylene; polyoxypropylene content averages 3 moles and polyoxyethylene content averages 5-12 moles |  | Do.
α-Alkyl (C6-C14)-ω-hydroxypoly(oxypropylene) block copolymer with polyoxyethylene; polyoxypropylene content is 1-3 moles; polyoxyethylene content is 7-9 moles; average molecular weight (in amu) approximately 635 |  | Surfactants, related adjuvants of surfactants
α-alkyl (C12-C15)-ω-hydroxypoly (oxypropylene)poly (oxyethylene)copolymers (where the poly(oxypropylene) content is 3-60 moles and the poly(oxyethylene) content is 5-80 moles), the resulting ethoxylated propoxylated (C12-C15) alcohols having a minimum molecular weight (in amu) of 1,500, CAS Reg. No. 68551-13-3 | Not to exceed 20% of pesticide formulations | Surfactant
α-(p- Alkylphenyl)-ω-hydroxypoly (oxyethylene) produced by the condensation of 1 mole of alkylphenol (alkyl is a mixture of propylene tetramer and pentamer isomers and averages C13) with 6 moles of ethylene oxide |  | Do.
Alkyl (C8-C18) sulfate and its ammonium, calcium, magnesium, potassium, sodium, and zinc salts |  | Do.
Amine salts of alkyl (C8-C24) benzenesulfonic acid (butylamine; dimethylamino propylamine; mono- and diisopropyl- amine; and mono-, di-, and triethanolamine) |  | Do.
Ascorbyl palmitate |  | Preservative
Attapulgite-type clay |  | Solid diluent, carrier
Barium sulfate (CAS Reg. No. 7727-43-7) |  | Carrier, density control agent
Benzoic acid |  | Preservative for formulations
Butane |  | Propellant
n-Butanol (CAS Reg. No. 71-36-3) |  | Solvent for blended emulsifiers
Butylated hydroxyanisole |  | Antioxidant
Butylated hydroxytoluene |  | Do.
α-(p-tert- Butylphenyl)-ω-hydroxypoly (oxyethylene) mixture of dihydrogen phosphate and monohydrogen phosphate esters and the corresponding ammonium, calcium, magnesium, monoethanolamine, potassium, sodium, and zinc salts of the phosphate esters; the poly(oxyethylene) content averages 4-12 moles |  | Surfactants, related adjuvants of surfactants
Calcium carbonate |  | Solid diluent, carrier
Calcium chloride |  | Stabilizer
Calcium silicate, hydrated calcium silicate |  | Anticaking agent, solid diluent, carrier
Calcium stearate (CAS Reg. No. 1592-23-0) |  | Stabilizer, component of plastic animal tag
Calcium sulfate |  | Solid diluent, carrier
Calcium and sodium salts of certain sulfonated petroleum fractions (mahogany soaps); calcium salt molecular weight (in amu) 790-1,020, sodium salt molecular weight (in amu) 400-500 |  | Surfactants, related adjuvants of surfactants
Carbon black (CAS Reg. No. 1333-86-4) |  | Colorant/pigment in animal tag
Carnauba wax (CAS Reg. No. 8015-86-9) |  | Binder
Carrageenan, conforming to 21 CFR 172.620 | Minimum molecular weight (in amu): 100,000 | Thickener
Cumene (isopropylbenzene) |  | Solvent, cosolvent
Cyclohexanone |  | Do.
D&C Green No. 6 |  | Dye, coloring agent
D&C Red No. 17 |  | Do.
D&C Violet No. 2 |  | Do.
Diacetyl tartaric acid esters of mono- and diglycerides of edible fatty acids |  | Emulsifier
Dialkyl (C8-C18) dimethylammonium chloride | Not more than 0.2% in silica hydrated silica | Flocculating agent in the manufacture of silica hydrated silica for use as a solid diluent, carrier
Diatomite (diatomaceous earth) |  | Solid diluent, carrier
Dibutyltin dilaurate (CAS Reg. No. 77-58-7) |  | Component of plastic slow release tag
Dichlorodifluoromethane |  | Propellant
Diethylphthalate |  | Solvent, cosolvent
1,1-Difluoroethane (CAS Reg. No. 75-37-6) | For aerosol pesticide formulations used for insect control in food- and feed-handling establishments and animals | Aerosol propellant
Dimethyl ether (CAS Reg. No. 115-10-6) |  | Propellant
3,6-Dimethyl-4-octyne-3,6-diol | Not more than 2.5% of pesticide formulation | Surfactants, related adjuvants of surfactants
Dimethylpolysiloxane (CAS Reg. No. 9016-00-6) |  | Defoaming agent
α-(o,p-Dinonylphenyl)-ω-hydroxypoly (oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles |  | Surfactants, related adjuvants of surfactants
α-(o,p-Dinonylphenyl)-ω-hydroxypoly (oxyethylene), produced by the condensation of 1 mole of dinonylphenol (nonyl group is a propylene trimer isomer) with an average of 4-14 moles of ethylene oxide |  | Do.
Dipropylene glycol monomethyl ether |  | Do.
Dodecylbenzenesulfonic acid, amine salts |  | Do.
α-(p-Dodecylphenyl)-ω-hydroxypoly (oxyethylene) produced by the condensation of 1 mole of dodecylphenol (dodecyl group is a propylene tetramer isomer) with an average of 4-14 or 30-70 moles of ethylene oxide; if a blend of products is used, the average number of moles of ethylene oxide reacted to produce any product that is a component of the blend shall be in the range of 4-14 or 30-70 moles |  | Surfactants, emulsifier
Epoxidized soybean oil (CAS Reg. No. 8013-07-8) |  | Stabilizer, plasticizer, component animal tag
Ethyl alcohol |  | Solvent, cosolvent
Ethylene oxide adducts of 2,4,7,9-tetramethyl-5-decynediol, the ethylene oxide content averages 3.5, 10, or 30 moles |  | Surfactants, related adjuvants of surfactants
2-Ethyl-1-hexanol | Not more than 2.5% of pesticide formulation | Solvent, adjuvant of surfactants
Ethyl vinyl acetate (CAS Reg. No. 24937-78-8) |  | Component of plastic slow release tag
FD&C Blue No. 1 |  | Dye, coloring agent
FD&C Yellow No. 6 Aluminum Lake (CAS Reg. No. 15790-07-5) | Not more than 2% by weight of pesticide formulation | Pigment in animal tag and similar slow-release devices
Glycerol (glycerin) | Meets specifications of Food Chemicals Codex | Solvent and thickener
Glycerol monooleate |  | Surfactants, related adjuvants of surfactants
Glyceryl monostearate |  | Emulsifier
Glyceryl tris-12-hydroxystearate |  | Flow control agent
Graphite |  | Solid diluent, carrier
n-Hexyl alcohol (CAS Reg. No. 111-27-3) |  | Solvent, cosolvent
2-(2′-Hydroxy-5′-methylphenyl)benzotriazole (CAS Reg. No. 2440-22-4) | Not more than 0.5% by weight of pesticide formulation | Ultraviolet light absorber/stabilizer in animal tag and similar slow-release devices
Iron oxide (CAS Reg. No. 1309-37-1) |  | Colorant in pesticide formulations for animal tags
Isopropyl alcohol |  | Solvent, cosolvent
4,4′-Isopropylidenediphenol alkyl (C12-C15) phosphites (CAS Reg. No. 92908-32-2) | Not to exceed 1% of polymer | Stabilizer, component animal tag
Isopropyl myristate, CAS Reg. No. 110-27-0 |  | Solvent
Kaolinite-type clay |  | Solid diluent, carrier
Kerosene, U.S.P. reagent |  | Solvent, cosolvent
Lactic acid |  | Solvent
α-Lauryl-ω-hydroxypoly(oxyethylene), average molecular weight (in amu) of 600 |  | Emulsifier
α-Lauryl-ω-hydroxypoly(oxyethylene) sulfate, sodium salt; the poly(oxyethylene) content is 3-4 moles |  | Surfactants, related adjuvants of surfactants
Lignosulfonate: ammonium, calcium, magnesium, potassium, sodium, and zinc salts |  | Surfactants, related adjuvants of surfactants
d-Limonene (CAS Reg. No. 5989-27-5) |  | Solvent, fragrance
Magnesium carbonate |  | Solid diluent, carrier
Magnesium silicate, hydrated magnesium silicate |  | Do.
Manganous oxide |  | Do.
Methyl alcohol |  | Solvent, cosolvent
Methyl n-amyl ketone (CAS Reg. No. 110-43-0) |  | Solvent, cosolvent
α-(Methylene (4-(1,1,3,3-tetramethylbutyl)-o- phenylene) bis-ω-hydroxypoly(oxyethylene) having 6-7.5 moles of ethylene oxide per hydroxyl group |  | Surfactants, related adjuvants of surfactants
Methyl esters of higher fatty acids conforming to 21 CFR 573.640 |  | Antidusting agent
Methyl-p-hydroxybenzoate (Methyl paraben) | Meets specifications of Food Chemicals Codex; not to exceed 0.1% in formulations | Preservative
Methyl isobutyl ketone |  | Solvent, cosolvent
2-[Methyl [(perfluoroalkyl)alkyl(C2-C8)sulfonyl] amino]alkyl(C2-C8) acrylate—alkyl(C2-C8) methacrylates-N-methylolacrylamide copolymer |  | Water repellant agent
Mineral oil, U.S.P., or conforming to 21 CFR 172.878 or 178.3620(a), (b) |  | Solvent, diluent
Mono-, di-, and trimethylnaphthalenesulfonic acids-formaldehyde condensates, sodium salts | Not to exceed 0.006% in final formulation | Dispersing-wetting agent in dip vat operations for large animals, such as cattle
Montmorillonite-type clay |  | Solid diluent, carrier
Naphthalenesulfonic acid and its sodium salt |  | Surfactants, related adjuvants of surfactants
Nitrile rubber modified acrylonitrile methylacrylate (CAS Reg. No. 27012-62-0) conforming to 21 CFR 177.1480 |  | Component of plastic slow release tag
Nonyl, decyl, and undecyl glycoside mixture with a mixture of nonyl, decyl, and undecyl oligosaccharides and related reaction products (primarily decanol and undecanol) produced as an aqueous-based liquid (50 to 65% solids) from the reaction of primary alcohols (containing 15 to 20% secondary alcohol isomers) in a ratio of 20% C9, 40% C10, and 40% C11 with carbohydrates (average glucose to alkyl chain ratio 1.3 to 1.8) |  | Surfactant
α-(p-Nonylphenyl)-ω-hydroxypoly(oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles |  | Surfactants, related adjuvants of surfactants
α-(p-Nonylphenyl)-ω-hydroxypoly(oxyethylene) produced by the condensation of 1 mole of nonylphenol (nonyl group is a propylene trimer isomer) with an average of 4-15 or 30-90 moles of ethylene oxide; if a blend of products is used, the average number of moles of ethylene oxide reacted to produce any product that is a component of the blend shall be in the range of 4-15 or 30-90 moles |  | Surfactants, emulsifier, related adjuvants of surfactants.
α-(p-Nonylphenyl)-ω-hydroxypoly(oxyethylene) sulfate, and its ammonium, calcium, magnesium, potassium, sodium, and zinc salts; the nonyl group is a propylene trimer isomer and the poly(oxyethylene) content averages 4 moles |  | Surfactants, related adjuvants of surfactants
α-(p-Nonylphenyl)-ω-hydroxypoly(oxyethylene) sulfate, and its ammonium, calcium, magnesium, monoethanolamine, potassium, sodium, and zinc salts; the nonyl group is a propylene trimer isomer and the poly(oxyethylene) content averages 4-14 or 30-90 moles of ethyiene oxide |  | Surfactants, related adjuvants of surfactants
Octadecyl 3,5-di-tert-butyl-4-hydroxyhydro cinnamate (CAS Reg. No. 2082-79-3) | Not more than 0.5% by weight of pesticide formulation | Thermal stabilizer/antioxidant in animal tag and similar slow-release devices
Octyl and decyl glucosides mixture with a mixture of octyl and decyl oligosaccharides and related reaction products (primarily n-decanol) produced as an aqueous-based liquid (68-72% solids) from the reaction of straight chain alcohols (C8(45%), C10) with anhydrous glucose |  | Do.
Octyl epoxytallate (CAS Reg. No. 61788-72-5) |  | Plasticizer, component animal tag
Oleic acid, conforming to 21 CFR 172.862 (CAS Reg. No. 112-80-1) |  | Defoaming agent
α-Oleoyl-ω-hydroxypoly(oxyethylene), average molecular weight (in amu) of 600 |  | Emulsifier
α-Oleoyl-ω-(oleyloxy)poly(oxyethylene) derived from α-hydro-ω-hydroxypoly(oxyethylene), molecular weight (in amu) 600 |  | Emulsifier, defoaming agent
Oxidized pine lignin, sodium salt (CAS Reg. No. 68201-23-0) | Maximum of 2% of formulation | Surfactant, related adjuvant of surfactant
Paraformaldehyde | Not more than 2% of pesticide formulation | Preservative for formulation
Petroleum hydrocarbons, light, odorless, conforming to 21 CFR 172.884 or 178.3650 |  | Solvent, diluent
Petroleum hydrocarbons, synthetic isoparaffinic, conforming to 21 CFR 172.882 or 178.3530 |  | Do.
Phenol |  | Solvent, cosolvent
Pine lignin |  | Adsorbent
α-Pinene | Not more than 2% of formulation by weight | Stabilizer
Polyethylene (CAS Reg. No. 9002-88-4) conforming to 21 CFR 172.615 |  | Component of plastic slow release tag
Polyethylene esters of fatty acids, conforming to 21 CFR 172.854 |  | Surfactants, related adjuvants of surfactants
Polyethylene glycol [α-hydro-ω-hydroxypoly(oxyethylene)]; mean molecular weight (in amu) 194 to 9,500 conforms to 21 CFR 178.3750 |  | Surfactants, related adjuvants of surfactants
Polyglyceryl phthalate esters of coconut oil fatty acids |  | Do.
Poly(methylene-p-tert- butylphenoxy)poly(oxyethylene) ethanol; the poly(oxyethylene) content averages 4-12 moles |  | Do.
Poly(methylene-p-nonylphenoxy)poly(oxyethylene) ethanol; the poly(oxyethylene) content averages 4-12 moles |  | Do.
Poly(methylene-p- nonylphenoxy)poly(oxypropylene) propanol; the poly(oxypropylene) content averages 4-12 moles |  | Do.
Potassium hydroxide | Meeting Food Chemicals, Codex specifications | Neutralizer
Propane |  | Propellant
n-Propanol |  | Solvent, for blended emulsifiers
2-Propenoic acid, 2-methyl-, polymer with ethyl 2-propenoate and methyl 2-methyl-2-propenoate, ammonium salt (CAS Registration No. 55989-05-4), minimum number average molecular weight (in amu), 18,900. |  | Encapsulating agent,dispensers, resins, fibers and beads
Propylene glycol |  | Solvent, cosolvent
Propylene glycol monomethyl ether |  | Deactivator, emmolient
Propyl gallate |  | Antioxidant
Propyl p-hydroxybenzoate (Propyl paraben) | Meets specifications of Food Chemicals Codex; not to exceed 0.1% in formulations | Preservative
Pyrophylite |  | Solid diluent, carrier
Rhodamine B | Expires December 27, 2004. | Dye for use in ear tags only
Secondary alkyl (C11-C15) poly(oxyethylene) acetate, sodium salt; the ethylene oxide content averages 5 moles |  | Surfactant
Silica, hydrated silica |  | Anticaking agent, solid diluent, carrier
Silica aerogel (finely powdered microcellular silica foam having a minimum silica content of 89.5%) |  | Component of antifoaming agent
Soapstone |  | Solid diluent
Sodium benzoate (CAS Reg. No. 532-32-1) |  | Anticaking agent/stabilizer/preservative
Sodium butylnaphthalenesulfonate |  | Not more than 0.5% of pesticide formulation
Sodium diisobutylnaphthalenesulfonate |  | Surfactants, related adjuvants of surfactants
Sodium dioctylsulfosuccinate |  | Do.
Sodium hydroxide |  | Neutralizer
Sodium isopropylisohexylnaphthalenesulfonate |  | Surfactants, related adjuvants of surfactants
Sodium isopropylnaphthalenesulfonate |  | Do.
Sodium monoalkyl and diakyl (C8-C13) phenoxybenzenedisulfonate mixtures containing not less than 70% of the monoalkylated product |  | Do.
Sodium mono- and dimethylnaphthalenesulfonate, molecular weight (in amu) 245-260 |  | Do.
Sodium mono-, di-, and tributylnaphthalenesulfonates |  | Solvent, cosolvent stabilizer
Sodium N-oleoyl-N-methyl taurine | Not more than 1% of pesticide formulations | Surfactant
Sodium starch glycolate (CAS Reg. No. 9063-38-1) | Granular and tableted products only; not to exceed 8% of the formulated product | Disintegrant
Sodium sulfate |  | Solid diluent, carrier
Sorbitan fatty acid esters (fatty acids limited to C12, C14, C16, and C18 containing minor amounts of associated fatty acids) and poly(oxyethylene) derivatives of sorbitan fatty acid esters; the poly(oxyethylene) content averages 16-20 moles |  | Buffering agent; corrosion inhibition
Sorbitol |  | Antidusting agent.
Soy protein, isolated | Expires May 24, 2005. | Adhesive
Stearic acid (CAS Reg. No. 57-11-4) |  | Lubricant, component animal tag
α-Stearoyl-ω-hydroxypoly(oxyethylene), average molecular weight (in amu) of 600 |  | Emulsifier
α-Stearoyl-ω-hydroxypoly(oxyethylene); the poly(oxyethylene) content averages 8, 9, or 40 moles; if a blend of products is used, the average number of moles of ethylene oxide reacted to produce any product that is a component of the blend shall be 8, 9, or 40 |  | Surfactants; related adjuvants of surfactants
Sulfur (CAS Reg. No. 7704-34-9) |  | Stabilizer
Talc |  | Do.
Tall oil; fatty acids not less than 58%, rosin acids not more than 44%, unsaponifiables not more than 8% |  | Surfactants, related adjuvants of surfactants
Tartrazine |  | Dye, coloring agent
α-[p-(1,1,3,3-Tetramethylbutyl)phenyl]-ω-hydroxypoly(oxyethylene) produced by the condensation of 1 mole of p (1,1,3,3-tetramethylbutyl)phenol with a range of 1-14 or 30-70 moles of ethylene oxide: if a blend of products is used, the average range number of moles of ethylene oxide reacted to produce any product that is a component of the blend shall be in the range of 1-14 or 30-70 |  | Surfactants, related adjuvants of surfactants
α-[p-(1,1,3,3-Tetramethylbutyl)phenyl]-ω-hydroxypoly(oxyethylene) produced by the condensation of 1 mole of p-(1,1,-3,3-tetramethylbutyl) phenol with an average of 4-14 or 30-70 moles of ethylene oxide; if a blend of products is used, the average number of moles of ethylene oxide reacted to produce any product that is a component of the blend shall be in the range of 4-14 or 30-70 |  | Surfactants, related adjuvants of surfactants
2,4,7,9-Tetramethyl-5-decyne-4.7-diol | Not more than 2.5% of pesticide formulation | Do.
Titanium dioxide (CAS Reg. No. 13463-67-7) |  | Pigment/colorant in pesticide formulations for animal tag
Toluenesulfonic acid and its ammonium, calcium, magnesium, potassium, sodium, and zinc salts |  | Do.
Triacetin (glyceryl triacetate) |  | Solvent, cosolvent
Tri-tert-butylphenol polyglycol ether (molecular weight (in amu) 746) |  | Dispersing agent
1,1,1-Trichloroethane |  | Solvent, cosolvent
Trichlorofluoromethane |  | Propellant
Tridecylpoly(oxyethylene) acetate sodiums salt; where the ethylene oxide content averages 6-7 moles |  | Surfactants, related adjuvants of surfactants
Triethylene glycol diacetate (CAS Reg. No. 111-21-7) | For use on beef cattle only | Solvent
Trisodium phosphate |  | Precipitant, buffer, filler
Ultramarine blue(CAS Reg. No. 57455-37-5) | Not more than 1.5% of pesticide formulation | Pigment/colorant in animal tag
Wheat shorts | Expires May 24, 2005. | Solid diluent
Wood rosin acid, potassium salts, conforming to 21 CFR 178.3870 |  | Surfactants, related adjuvants of surfactants
Xylene |  | Solvent, cosolvent
Xylenesulfonic acid and its ammonium, calcium, magnesium, potassium, sodium, and zinc salts |  | Surfactants, related adjuvants of surfactants
Zinc oxide |  | Solid diluent, carrier
Zinc stearate, conforming to 21 CFR 182.5994 and 582.5994 |  | Water repellant, dessicant, and coating agent.
Zinc stearate (CAS Reg. No. 557-05-1) |  | Water repellant, desiccant, and coating agent; stabilizer, component of plastic animal tag
Zinc sulfate (basic and monohydrate) |  | Water repellant, dessicant, and coating agent

12. Section 180.940 is added to subpart D to read as follows:

§ 180.940 Tolerance exemptions for active and inert ingredients for use in antimicrobial formulations (Food-contact surface sanitizing solutions).

Residues of the following chemical substances are exempted from the requirement of a tolerance when used in accordance with good manufacturing practice as ingredients in an antimicrobial pesticide formulation, provided that the substance is applied on a semi-permanent or permanent food-contact surface (other than being applied on food packaging) with adequate draining before contact with food.

(a) The following chemical substances when used as ingredients in an antimicrobial pesticide formulation may be applied to: Food-contact surfaces in public eating places, dairy-processing equipment, and food-processing equipment and utensils.

Pesticide Chemical | CAS Reg. No. | Limits
Acetic acid | 64-19-7 | When ready for use, the end-use concentration is not to exceed 290 ppm
α-Alkyl(C10-C14)-ω-hydroxypoly (oxyethylene) poly(oxypropylene) average molecular weight (in amu), 768 to 837 | None | None
α-Alkyl(C12-C18)-ω-hydroxypoly (oxyethylene) poly(oxypropylene) average molecular weight (in amu), 950 to 1120 | None | None
Ammonium chloride | 12125-02-9 | When ready for use, the end-use concentration is not to exceed 48 ppm
Ethanol | 64-17-5 | None
Ethylenediaminetetraacetic acid (EDTA), tetrasodium salt | 64-02-8 | None
Hydrogen peroxide | 7722-84-1 | When ready for use, the end-use concentration is not to exceed 91 ppm
Hypochlorous acid, sodium salt | 7681-52-9 | When ready for use, the end-use concentration of all hypochlorous acid chemicals in the solution is not to exceed 200 ppm determined as total available chlorine
Iodine | 7553-56-2 | When ready for use, the total end-use concentration of all iodide-producing chemicals in the solution is not to exceed 25 ppm of titratable iodine
Magnesium oxide | 1309-48-4 | None
Methylene blue | 61-73-4 | When ready for use, the end-use concentration is not to exceed 0.4 ppm
α-(p-Nonylphenyl)-ω-hydroxypoly (oxyethylene) average poly(oxyethylene) content 11 moles) | None | None
Octadecanoic acid, calcium salt | 1592-23-0 | None
1-Octanesulfonic acid, sodium salt | 5324-84-5 | When ready for use, the end-use concentration is not to exceed 46 ppm
Octanoic acid | 124-07-2 | When ready for use, the end-use concentration is not to exceed 52 ppm
Oxirane, methyl-, polymer with oxirane, minimum molecular weight (in amu), 1900 | 9003-11-6 | None
Peroxyacetic acid | 79-21-0 | When ready for use, the end-use concentration is not to exceed 58 ppm
Peroxyoctanoic acid | 33734-57-5 | When ready for use, the end-use concentration is not to exceed 52 ppm
Phosphonic acid, (1-hydroxyethylidene)bis- | 2809-21-4 | When ready for use, the end-use concentration is not to exceed 14 ppm
Phosphoric acid, trisodium salt | 7601-54-9 | When ready for use, the end-use concentration is not to exceed 5916 ppm
Potassium bromide | 7758-02-3 | When ready for use, the end-use concentration is not to exceed 46 ppm total available halogen
Potassium iodide | 7681-11-0 | When ready for use, the total end-use concentration of all iodide-producing chemicals in the solution is not to exceed 25 ppm of titratable iodine
Potassium permanganate | 7722-64-7 | When ready for use, the end-use concentration is not to exceed 0.7 ppm
2-Propanol (isopropanol) | 67-63-0 | None
Quaternary ammonium compounds, alkyl (C12-C18) benzyldimethyl, chlorides | 8001-54-5 | When ready for use, the end-use concentration of all quaternary chemicals in the solution is not to exceed 200 ppm of active quaternary compound
Quaternary ammonium compounds, n-alkyl (C12-C14) dimethyl ethylbenzyl ammonium chloride, average molecular weight (in amu), 377 to 384 | None | When ready for use, the end-use concentration of all quaternary chemicals in the solution is not to exceed 200 ppm of active quaternary compound
Quaternary ammonium compounds n-alkyl (C12-C18) dimethyl ethylbenzyl ammonium chloride average molecular weight (in amu) 384 | None | When ready for use, the end-use concentration of all quaternary chemicals in the solution is not to exceed 200 ppm of active quaternary compound
Quaternary ammonium compounds di-n-alkyl (C8-C10) dimethyl ammonium chloride, average molecular weight (in amu), 332 to 361 | None | When ready for use, the end-use concentration of this specific quaternary compound is not to exceed 150 ppm of active quaternary compound; the end-use concentration of all quaternary chemicals in the solution is not to exceed 200 ppm of active quaternary compound
Sodium bicarbonate | 144-55-8 | None
Sulfuric acid monododecyl ester, sodium salt (sodium lauryl sulfate) | 151-21-3 | When ready for use, the end-use concentration is not to exceed 3 ppm
1,3,5-Triazine-2,4,6(1H,3H,5H)-trione, 1,3-dichloro-, sodium salt | 2893-78-9 | When ready for use, the end-use concentration of all di- or trichloroisocyanuric acid chemicals in the solution is not to exceed 100 ppm determined as total available chlorine

(b) The following chemical substances when used as ingredients in an antimicrobial pesticide formulation may be applied to: Dairy processing equipment, and food-processing equipment and utensils.

Pesticide Chemical | CAS Reg. No. | Limits
Acetic acid | 64-19-7 | When ready for use, the end-use concentration is not to exceed 686 ppm
Acetic acid, chloro-, sodium salt, reaction products with 4,5-dihydro-2-undecyl-1H-imidazole-1-ethanol and sodium hydroxide | 68608-66-2 | When ready for use, the end-use concentration is not to exceed 42 ppm chloroacetic acid
Benzenesulfonic acid, dodecyl- | 27176-87-0 | When ready for use, the end-use concentration is not to exceed 5.5 ppm
Butanedioic acid, octenyl- | 28805-58-5 | When ready for use, the end-use concentration is not to exceed 156 ppm
Butoxy monoether of mixed (ethylene-propylene) polyalkylene glycol, minimum average molecular weight (in amu), 2400 | None | None
Calcium chloride | 10043-52-4 | When ready for use, the end-use concentration is not to exceed 17 ppm
n-Carboxylic acids (C6-C12), consisting of a mixture of not less than 56% octanoic acid and not less than 40% decanoic acid | None | When ready for use, the end-use concentration is not to exceed 39 ppm
Decanoic acid | 334-48-5 | When ready for use, the end-use concentration is not to exceed 90 ppm
Ethanesulfonic acid, 2-[cyclohexyl (1-oxohexadecyl) amino]-, sodium salt | 132-43-4 | When ready for use, the end-use concentration is not to exceed 237 ppm
Ethylenediaminetetraacetic acid (EDTA), disodium salt | 139-33-3 | When ready for use, the end-use concentration is not to exceed 1400 ppm
FD&C Yellow No. 5 (Tartrazine) (conforming to 21 CFR 74.705) | 1934-21-0 | None
D-Gluconic acid, monosodium salt | 527-07-1 | When ready for use, the end-use concentration is not to exceed 760 ppm
Hydriodic acid | 10034-85-2 | When ready for use, the total end-use concentration of all iodide-producing chemicals is not to exceed 25 ppm of titratable iodine
Hydrogen peroxide | 7722-84-1 | When ready for use, the end-use concentration is not to exceed 465 ppm
Hypochlorous acid | 7790-92-3 | When ready for use, the end-use concentration of all hypochlorous acid chemicals in the solution is not to exceed 200 ppm determined as total available chlorine
Iodine | 7553-56-2 | When ready for use, the total end-use concentration of all iodide-producing chemicals in the solution is not to exceed 25 ppm of titratable iodine
Lactic acid | 50-21-5 | When ready for use, the end-use concentration is not to exceed 138 ppm
α-Lauroyl-ω-hydroxypoly (oxyethylene) with an average of 8-9 moles ethylene oxide, average molecular weight (in amu), 400 | None | None
Nonanoic acid | 112-05-0 | When ready for use, the end-use concentration is not to exceed 90 ppm
1-Octanamine, N,N-dimethyl- | 7378-99-6 | When ready for use, the end-use concentration is not to exceed 113 ppm
1,2-Octanedisulfonic acid | 113669-58-2 | When ready for use, the end-use concentration is not to exceed 102 ppm
1-Octanesulfonic acid | 3944-72-7 | When ready for use, the end-use concentration is not to exceed 172 ppm
1-Octanesulfonic acid, sodium salt | 5324-84-5 | When ready for use, the end-use concentration is not to exceed 297 ppm
1-Octanesulfonic acid, 2-sulfino- | 113652-56-5 | When ready for use, the end-use concentration is not to exceed 102 ppm
Octanoic acid | 124-07-2 | When ready for use, the end-use concentration is not to exceed 176 ppm
Oxirane, methyl-, polymer with oxirane, ether with (1,2-ethanediyldinitrilo)tetrakis [propanol] (4:1) | 11111-34-5 | When ready for use, the end-use concentration is not to exceed 20 ppm
Oxychloro species (including chlorine dioxide) generated by acidification of an aqueous solution of sodium chlorite | None | When ready for use, the end-use concentration is not to exceed 200 ppm of chlorine dioxide as determined by the method titled, Iodometric Method for the Determination of Available Chlorine Dioxide (50-250 ppm available chlorine dioxide)
Peroxyacetic acid | 79-21-0 | When ready for use, the end-use concentration is not to exceed 315 ppm
Peroxyoctanoic acid | 33734-57-5 | When ready for use, the end-use concentration is not to exceed 122 ppm
Phosphonic acid, (1-hydroxyethylidene)bis- | 2809-21-4 | When ready for use, the end-use concentration is not to exceed 34 ppm
Phosphoric acid | 7664-38-2 | None
Phosphoric acid, monosodium salt | 7558-80-7 | When ready for use, the end-use concentration is not to exceed 350 ppm
Potassium iodide | 7681-11-0 | When ready for use, the total end-use concentration of all iodide-producing chemicals in the solution is not to exceed 25 ppm of titratable iodine
Propanoic acid | 79-09-4 | When ready for use, the end-use concentration is not to exceed 297 ppm
2-Propanol (isopropanol) | 67-63-0 | None
2,6-Pyridinedicarboxylic acid | 499-83-2 | When ready for use, the end-use concentration is not to exceed 1.2 ppm
Sodium mono-and didodecylphenoxy-benzenedisulfonate | None | When ready for use, the end-use concentration is not to exceed 1920 ppm
Sulfuric acid | 7664-93-9 | When ready for use, the end-use concentration is not to exceed 288 ppm
Sulfuric acid monododecyl ester, sodium salt (sodium lauryl sulfate) | 151-21-3 | When ready for use, the end-use concentration is not to exceed 350 ppm

(c) The following chemical substances when used as ingredients in an antimicrobial pesticide formulation may be applied to: Food-processing equipment and utensils.

Pesticide Chemical | CAS Reg. No. | Limits
Acetic acid | 64-19-7 | When ready for use, the end-use concentration is not to exceed 686 ppm
Acetic acid, chloro-, sodium salt, reaction products with 4,5-dihydro-2-undecyl-1H-imidazole-1-ethanol and sodium hydroxide | 68608-66-2 | When ready for use, the end-use concentration is not to exceed 42 ppm chloroacetic acid
α-Alkyl(C10-C14)-ω-hydroxypoly (oxyethylene) poly (oxypropylene) average molecular weight (in amu), 768 to 837 | None | None
α-Alkyl(C11-C15)-ω-hydroxypoly (oxyethylene) with ethylene oxide content 9 to 13 moles | None | None
α-Alkyl(C12-C15)-ω-hydroxypoly (oxyethylene) polyoxypropylene, average molecular weight (in amu), 965 | None | None
α-Alkyl(C12-C18)-ω-hydroxypoly (oxyethylene) poly(oxypropylene) average molecular weight (in amu), 950 to 1120 | None | None
Alkyl (C12-C15) monoether of mixed (ethylene-propylene) polyalkylene glycol, cloud point of 70 - 77⁰C in 1% aqueous solution, average molecular weight (in amu), 807 | None | None
Ammonium chloride | 12125-02-9 | When ready for use, the end-use concentration is not to exceed 48 ppm
Benzenesulfonamide, N-chloro-4-methyl, sodium salt | 127-65-1 | None
Benzenesulfonic acid, dodecyl- | 27176-87-0 | When ready for use, the end-use concentration is not to exceed 400 ppm
Benzenesulfonic acid, dodecyl-, sodium salt | 25155-30-0 | When ready for use, the end-use concentration is not to exceed 430 ppm
Benzenesulfonic acid, oxybis[dodecyl- | 30260-73-2 | When ready for use, the end-use concentration is not to exceed 474 ppm
[1,1'-Biphenyl]-2-ol | 90-43-7 | When ready for use, the end-use concentration is not to exceed 400 ppm
Boric acid, sodium salt | 7775-19-1 | None
Butanedioic acid, octenyl- | 28805-58-5 | When ready for use, the end-use concentration is not to exceed 156 ppm
Butanedioic acid, sulfo-, 1,4-dioctyl ester, sodium salt | 1639-66-3 | None
Butoxy monoether of mixed (ethylene-propylene) polyalkylene glycol, cloudpoint of 90 - 100ᵒC in 0.5 aqueous solution, average molecular weight (in amu), 3300 | None | None
Butoxy monoether of mixed (ethylene-propylene) polyalkylene glycol, minimum average molecular weight (in amu), 2400 | None | None
Calcium bromide | 7789-41-5 | When ready for use, the end-use concentration of all bromide-producing chemicals in the solution is not to exceed 200 ppm total available halogen
Calcium chloride | 10043-52-4 | When ready for use, the end-use concentration is not to exceed 17 ppm
n-Carboxylic acids (C6-C12), consisting of a mixture of not less than 56% octanoic acid and not less than 40% decanoic acid | None | When ready for use, the end-use concentration is not to exceed 39 ppm
3-Cyclohexene-1-methanol,α,α,4-trimethyl- | 98-55-5 | None
1-Decanaminium, N-decyl-N, N-dimethyl-, chloride | 7173-51-5 | When ready for use, the end-use concentration is not to exceed 200 ppm of active quaternary compound
Decanoic acid | 3347-48-5 | When ready for use, the end-use concentration is not to exceed 234 ppm
Ethanesulfonic acid, 2-[cyclohexyl (1-oxohexadecyl) amino]-, sodium salt | 132-43-4 | When ready for use, the end-use concentration is not to exceed 237 ppm
Ethanol | 64-17-5 | None
Ethanol, 2 butoxy- | 111-76-2 | None
Ethanol, 2-(2-ethoxyethoxy)- | 111-90-0 | None
Ethylenediaminetetraacetic acid (EDTA), disodium salt | 139-33-3 | When ready for use, the end-use concentration is not to exceed 1400 ppm
Ethylenediaminetetraacetic acid (EDTA), tetrasodium salt | 64-02-8 | None
Fatty acids, coco, potassium salts | 61789-30-8 | None
Fatty acids, tall-oil, sulfonated, sodium salts | 68309-27-3 | When ready for use, the end-use concentration is not to exceed 66 ppm
FD&C Yellow No. 5 (Tartrazine) (conforming to 21 CFR 74.705) | 1934-21-0 | None
D-Gluconic acid, monosodium salt | 527-07-1 | When ready for use, the end-use concentration is not to exceed 760 ppm
Hydriodic acid | 10034-85-2 | When ready for use, the total end-use concentration of all iodide-producing chemicals in the solution is not to exceed 25 ppm of titratable iodine
Hydrogen peroxide | 7722-84-1 | When ready for use, the end-use concentration is not to exceed 1100 ppm
Hypochlorous acid | 7790-92-3 | When ready for use, the end-use concentration of all hypochlorous acid chemicals in the solution is not to exceed 200 ppm determined as total available chlorine
Hypochlorous acid, calcium salt | 7778-54-3 | When ready for use, the end-use concentration of all hypochlorous acid chemicals in the solution is not to exceed 200 ppm determined as total available chlorine
Hypochlorous acid, lithium salt | 13840-33-0 | When ready for use, the end-use concentration of all hypochlorous acid chemicals in the solution is not to exceed 200 ppm determined as total available chlorine and 30 ppm lithium
Hypochlorous acid, potassium salt | 7778-66-7 | When ready for use, the end-use concentration of all hypochlorous acid chemicals in the solution is not to exceed 200 ppm determined as total available chlorine
Hypochlorous acid, sodium salt | 7681-52-9 | When ready for use, the end-use concentration of all hypochlorous acid chemicals in the solution is not to exceed 200 ppm determined as total available chlorine
Iodine | 7553-56-2 | When ready for use, the total end-use concentration of all iodide-producing chemicals in the solution is not to exceed 25 ppm of titratable iodine
Lactic acid | 50-21-5 | None
α-Lauroyl-ω-hydroxypoly (oxyethylene) with an average of 8-9 moles ethylene oxide, average molecular weight (in amu), 400 | None | None
Magnesium oxide | 1309-48-4 | None
Methylene blue | 61-73-4 | When ready for use, the end-use concentration is not to exceed 0.4 ppm
Naphthalene sulfonic acid, sodium salt | 1321-69-3 | When ready for use, the end-use concentration of all naphthalene sulfonate chemicals in the solution is not to exceed 332 ppm naphthalene sulfonates
Naphthalene sulfonic acid sodium salt, and its methyl, dimethyl and trimethyl derivatives | None | When ready for use, the end-use concentration of all naphthalene sulfonate chemicals in the solution is not to exceed 332 ppm naphthalene sulfonates
Naphthalene sulfonic acid sodium salt, and its methyl, dimethyl and trimethyl derivatives alkylated at 3% by weight with C6-C9 linear olefins | None | When ready for use, the end-use concentration of naphthalene sulfonate chemicals in the solution is not to exceed 332 ppm naphthalene sulfonates
Neodecanoic acid | 26896-20-8 | When ready for use, the end-use concentration is not to exceed 174 ppm
Nonanoic acid | 112-05-0 | When ready for use, the end-use concentration is not to exceed 90 ppm
α-(p-Nonylphenyl)-ω-hydroxypoly (oxyethylene) maximum average molecular weight (in amu), 748 | None | None
α-(p-Nonylphenol)-ω-hydroxypoly (oxyethylene) average poly(oxyethylene) content 11 moles | None | None
α-(p-Nonylphenyl)-ω-hydroxypoly (oxyethylene) produced by the condensation of 1 mole p-nonylphenol with 9 to 12 moles ethylene oxide | None | None
α-(p-Nonylphenyl)-ω-hydroxypoly (oxyethylene), 9 to 13 moles ethylene oxide | None | None
Octadecanoic acid, calcium salt | 1592-23-0 | None
9-Octadecenoic acid (9Z)-, sulfonated | 68988-76-1 | When ready for use, the end-use concentration is not to exceed 312 ppm
9-Octadecenoic acid (9Z)-sulfonated, sodium salts | 68443-05-0 | When ready for use, the end-use concentration is not to exceed 200 ppm
1-Octanamine, N,N-dimethyl- | 7378-99-6 | When ready for use, the end-use concentration is not to exceed 113 ppm
1,2-Octanedisulfonic acid | 113669-58-2 | When ready for use, the end-use concentration is not to exceed 102 ppm
1-Octanesulfonic acid | 3944-72-7 | When ready for use, the end-use concentration is not to exceed 172 ppm
1-Octanesulfonic acid, sodium salt | 5324-84-5 | When ready for use, the end-use concentration is not to exceed 312 ppm
1-Octanesulfonic acid, 2-sulfino- | 113652-56-5 | When ready for use, the end-use concentration is not to exceed 102 ppm
Octanoic acid | 124-07-2 | When ready for use, the end-use concentration is not to exceed 234 ppm
Oxirane, methyl-, polymer with oxirane, minimum molecular weight (in amu), 1900 | 9003-11-6 | None
Oxirane, methyl-, polymer with oxirane, block, average molecular weight (in amu), 1900 | 106392-12-5 | None
Oxirane, methyl-, polymer with oxirane, block, minimum average molecular weight (in amu), 2000 | None | None
Oxirane, methyl-, polymer with oxirane, block, 27 to 31 moles of polyoxypropylene, average molecular weight (in amu) 2000 | None | None
Oxirane, methyl-, polymer with oxirane, ether with (1,2-ethanediyldinitrilo)tetrakis [propanol] (4:1) | 11111-34-5 | When ready for use, the end-use concentration is not to exceed 20 ppm
Oxychloro species (predominantly chlorite, chlorate and chlorine dioxide in an equilibrium mixture) generated either (i) by directly metering a concentrated chlorine dioxide solution prepared just prior to use, into potable water, or (ii) by acidification of an aqueous alkaline solution of oxychloro species (predominately chlorite and chlorate) followed by dilution with potable water | None | When ready for use, the end-use concentration is not to exceed 200 ppm of chlorine dioxide as determined by the method titled, "Iodometric Method for the Determination of Available Chlorine Dioxide (50-250 ppm available chlorine dioxide)
Oxychloro species (including chlorine dioxide) generated by acidification of an aqueous solution of sodium chlorite | None | When ready for use, the end-use concentration is not to exceed 200 ppm of chlorine dioxide as determined by the method titled, "Iodometric Method for the Determination of Available Chlorine Dioxide (50-250 ppm available chlorine dioxide)
2,4-Pentanediol, 2-methyl- | 107-41-5 | None
Peroxyacetic acid | 79-21-0 | When ready for use, the end-use concentration is not to exceed 315 ppm
Peroxyoctanoic acid | 33734-57-5 | When ready for use, the end-use concentration is not to exceed 122 ppm
Phenol, 4-chloro-2-(phenylmethyl)- | 120-32-1 | When ready for use, the end-use concentration is not to exceed 320 ppm
Phenol, 4-(1,1-dimethylpropyl)- | 80-46-6 | When ready for use, the end-use concentration is not to exceed 80 ppm
Phosphonic acid, (1-hydroxyethylidene)bis- | 2809-21-4 | When ready for use, the end-use concentration is not to exceed 34 ppm
Phosphoric acid | 7664-38-2 | None
Phosphoric acid, monosodium salt | 7558-80-7 | When ready for use, the end-use concentration is not to exceed 350 ppm
Phosphoric acid, trisodium salt | 7601-54-9 | When ready for use, the end-use concentration is not to exceed 5916 ppm
Poly(oxy-1,2-ethanediyl), α-[(1,1,3,3-tetramethylbutyl) phenyl]-ω-hydroxy-, produced with one mole of the phenol and 4 to 14 moles ethylene oxide | None | None
Potassium bromide | 7758-02-3 | When ready for use, the end-use concentration of all bromide-producing chemicals in the solution is not to exceed 200 ppm total available halogen
Potassium iodide | 7681-11-0 | When ready for use, the total end-use concentration of all iodide-producing chemicals in the solution is not to exceed 25 ppm of titratable iodine
Potassium permanganate | 7722-64-7 | When ready for use, the end-use concentration is not to exceed 0.7 ppm
Propanoic acid | 79-09-4 | When ready for use, the end-use concentration is not to exceed 297 ppm
2-Propanol (isopropanol) | 67-63-0 | None
2,6-Pyridinedicarboxylic acid | 499-83-2 | When ready for use, the end-use concentration is not to exceed 1.2 ppm
Quaternary ammonium compounds, alkyl (C12-C18) benzyldimethyl, chlorides | 8001-54-5 | When ready for use, the end-use concentration of this specific quaternary compound is not to exceed 200 ppm within the end-use total concentration that is not to exceed 400 ppm active quaternary compound
Quaternary ammonium compounds, n-alkyl (C12-C14) dimethyl ethylbenzyl ammonium chloride, average molecular weight (in amu), 377 to 384 | None | When ready for use, the end-use concentration of this specific quaternary compound is not to exceed 200 ppm within the end-use total concentration that is not to exceed 400 ppm active quaternary compound
Quaternary ammonium compounds, n-alkyl (C12-C18) dimethyl ethylbenzyl ammonium chloride average molecular weight (in amu) 384 | None | When ready for use, the end-use concentration of this specific quaternary compound is not to exceed 200 ppm within the end-use total concentration that is not to exceed 400 ppm active quaternary compound
Quaternary ammonium compounds, di-n-Alkyl (C8-C10) dimethyl ammonium chloride, average molecular weight (in amu), 332 to 361 | None | When ready for use, the end-use concentration of this specific quaternary compound is not to exceed 240 ppm within the end-use total concentration that is not to exceed 400 ppm active quaternary compound
Sodium-α-alkyl(C12-C15)-ω-hydroxypoly (oxyethylene) sulfate with the poly(oxyethylene) content averaging one mole | None | None
Sodium bicarbonate | 144-55-8 | None
Sodium bromide | 7647-15-6 | When ready for use, the end-use concentration of all bromide-producing chemicals in the solution is not to exceed 200 ppm total available halogen
Sodium iodide | 7681-82-5 | When ready for use, the total end-use concentration of all iodide-producing chemicals in the solution is not to exceed 25 ppm of titratable iodine
Sodium mono-and didodecylphenoxy-benzenedisulfonate | None | When ready for use, the end-use concentration is not to exceed 1920 ppm
Sulfuric acid | 7664-93-9 | When ready for use, the end-use concentration is not to exceed 228 ppm
Sulfuric acid monododecyl ester, sodium salt (sodium lauryl sulfate) | 151-21-3 | None
1,3,5-Triazine-2,4,6(1H,3H,5H)-trione, 1,3-dichloro- | 2782-57-2 | When ready for use, the end-use concentration of all di- or trichloroisocyanuric acid chemicals in the solution is not to exceed 100 ppm determined as total available chlorine
1,3,5-Triazine-2,4,6(1H,3H,5H)-trione, 1,3-dichloro-, potassium salt | 2244-21-5 | When ready for use, the end-use concentration of all di- or trichloroisocyanuric acid chemicals in the solution is not to exceed 100 ppm determined as total available chlorine
1,3,5-Triazine-2,4,6(1H,3H,5H)-trione, 1,3-dichloro-, sodium salt | 2893-78-9 | When ready for use, the end-use concentration of all di- or trichloroisocyanuric acid chemicals in the solution is not to exceed 100 ppm determined as total available chlorine
1,3,5-Triazine-2,4,6(1H,3H,5H)-trione, 1,3,5-trichloro- | 87-90-1 | When ready for use, the end-use concentration of all di- or trichloroisocyanuric acid chemicals in the solution is not to exceed 100 ppm determined as total available chlorine
1,3,5-Triazine, N,N',N'`-trichloro-2,4,6-triamino- | 7673-09-8 | When ready for use, the end-use concentration of all di- or trichloroisocyanuric acid chemicals in the solution is not to exceed 200 ppm determined as total available chlorine
Xylenesulfonic acid, sodium salt | 1300-72-7 | When ready for use, the end-use concentration is not to exceed 62 ppm

§ 180.1001 [Removed]

13. Section 180.1001 is removed.

14. In § 180.1067, paragraph (b) is revised to read as follows:

§ 180.1067 Methyl eugenol and malathion combination; exemption from the requirement of a tolerance.

* * * * *

(b) This combination is to be impregnated on a carrier (cigarette filter tips (cellulose acetate); cotton strings; fiberboard squares) or mixed with a jel cleared under 40 CFR 180.920 or 180.950.

* * * * *

[FR Doc. 04-9578 Filed 4-27-04; 8:45 am]

BILLING CODE 6560-50-S